ENVIRONMENTAL PROTECTION AGENCY

40 CFR Part 180

[EPA-HQ-OPP-2006-0766; FRL-9996-03]

RIN 2070-AJ28

Tolerance Crop Grouping Program V

AGENCY: Environmental Protection Agency (EPA).

ACTION: Proposed rule.

SUMMARY: EPA is proposing revisions to its pesticide tolerance crop grouping regulations, which allow the establishment of tolerances for multiple related crops based on data from a representative set of crops. EPA is proposing to revise one commodity definition, add three new commodity definitions, and amend the current herbs and spices crop group currently provided in Crop Group 19. The crops in the current “Crop Group 19: Herbs and Spices Group” will be separated into two new crop groups, “Crop Group 25: Herb Group” and “Crop Group 26: Spice Group.” Once final, these revisions will increase the utility and benefit of the crop grouping system for producers and other stakeholders involved in commercial agriculture. This is the fifth in a series of planned crop group updates expected to be prepared over the next several years.

DATES: Comments must be received on or before October 28, 2019.

ADDRESSES: Submit your comments, identified by docket identification (ID) number EPA-HQ-OPP-2006-0766, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Prasad Chumble, Field and External Affairs Division (7506P), Office of Pesticide Programs, Environmental Protection Agency, 1200 Pennsylvania Ave. NW, Washington, DC 20460-0001; telephone number 703-347-8367; email address: chumble.prasad@epa.gov.

SUPPLEMENTARY INFORMATION:

I. General Information

A. Legal Authority

EPA is initiating this rulemaking to amend the existing crop grouping regulations under section 408(e)(1)(C) of the Federal Food, Drug, and Cosmetic Act (FFDCA), which authorizes EPA to establish “general procedures and requirements to implement [section 408].” 21 U.S.C. 346a(e)(1)(C). Under section 408 of the FFDCA, EPA is authorized to establish tolerances for pesticide chemical residues in food. EPA establishes tolerances for each pesticide based on the potential risks to human health posed by that pesticide. A tolerance is the maximum permissible residue level established for a pesticide in raw agricultural commodities and processed foods. The crop group regulations currently in 40 CFR 180.40 and 180.41 enable the establishment of tolerances for a group of crops based on residue data for certain crops that are representative of the group.

B. Does this action apply to me?

You may be potentially affected by this action if you are an agricultural producer or food manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

C. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Background

A. Tolerance-Setting Requirements and Petitions From the Interregional Research Project Number 4 (IR-4) To Expand the Existing Crop Grouping System

EPA is authorized to establish tolerances, which are the maximum levels of pesticide chemical residues that may be in or on food commodities, under section 408 of the FFDCA (21 U.S.C. 346a). EPA establishes pesticide tolerances only after determining that aggregate exposure to the pesticide is considered safe. The United States Food and Drug Administration and the United States Department of Agriculture (USDA) enforce compliance with tolerance limits.

Traditionally, tolerances are established for a specific pesticide and commodity combination. However, under EPA's crop grouping regulations (40 CFR 180.40 and 180.41), a single tolerance may be established that applies to a group of related commodities. For example, “Crop Group 26: Spice Group” is proposed to include 166 commodities. Crop group tolerances may be established based on residue data from designated representative commodities within the group. Representative commodities are selected based on EPA's determination that they are likely to bear the maximum level of residue that could occur on any crop within the group. Using the same example, the proposed representative commodities for Crop Group 26 is a choice of either celery seed or dill seed. Once a crop group tolerance is established, the tolerance level applies to all commodities within the group.

This proposed rule is the fifth in a series of planned crop group amendments expected to be completed over the next several years. The previous four crop group amendment rules were finalized on December 7, 2007 (72 FR 69150); December 8, 2010 (75 FR 76284); August 22, 2012 (77 FR 50617); and May 3, 2016 (81 FR 26471) (Refs. 1, 2, 3, and 4, respectively). Specific information and details regarding the history of the crop group regulations, the previous amendments to the regulations, and the process for amending crop groups can be found in the Federal Register of May 23, 2007 (Ref. 5) and in the docket for this action under docket identifier EPA-HQ-OPP-2006-0766 at http://regulations.gov. Specific information regarding how the Agency implements crop group amendments can be found in 40 CFR 180.40(j).

The proposed changes identified in this action have been informed by a petition developed by the International Crop Grouping Consulting Committee (ICGCC) workgroup and submitted to EPA by a nation-wide cooperative project, the Interregional Research Project Number 4 (IR-4) (Ref. 6). This petition and the supporting monographs, as well as EPA's analyses of the petitions (Refs. 7, 8, and 9), are included in the docket for this action. Additional petitions seeking amendments and changes to the crop grouping regulations (40 CFR 180.40 and 180.41) from the ICGCC workgroup and IR-4 have been submitted and are being evaluated by EPA.

B. Regulatory Burden Reductions and Cost Savings Achieved Through the Expansion of the Existing Crop Grouping System

In 2007, EPA prepared an Economic Analysis (EA) of the potential costs and benefits associated with the first proposed rule issued in this series of updates, entitled “Economic Analysis Proposed Expansion of Crop Grouping Program” (Ref. 10). EPA considers the findings of the 2007 EA to apply to each subsequent crop group rulemaking, including this proposal, due to the similarity in purpose and scope of each of those rulemakings.

As discussed in the 2007 EA, EPA believes that crop grouping rulemakings are burden-reducing and cost-saving regulations. However, the impacts in the 2007 EA were measured primarily on a qualitative basis. For example, the crop grouping rules provide for greater sharing of data by permitting the results from a magnitude of residue field trial studies in one crop to be applied to other, similar crops. The primary beneficiaries are minor crop producers and pesticide registrants. Minor crop producers benefit because lower registration costs will encourage more products to be registered on minor crops, providing additional tools (i.e., pesticides) for pest control. Pesticide registrants are expected to benefit as expanded markets for pesticide products will lead to increased sales. Additionally, the IR-4, which is publicly funded, is also expected to benefit from this rule as it will help IR-4 use its resources more efficiently in its efforts to ensure that minor or specialty crop growers have access to legal, registered uses of essential pest management tools such as pesticides and biopesticides. The Agency is also expected to benefit from broader operational efficiency gains, which result from fewer emergency pesticide use requests from specialty crop growers, the ability to conduct risk assessment based on crop groupings, greater ease of establishing import tolerances, greater capacity to assess risks of pesticides used on crops not grown in the United States, further harmonization of crop classification and nomenclature, harmonized commodity import and export standards, and increased potential for resource sharing between EPA and other pesticide regulatory agencies.

While the 2007 EA provides a qualitative assessment of the benefits of the crop grouping rulemaking activities, EPA has developed a new burden reduction and cost savings assessment specific to the crop group amendments proposed in this rule, entitled “Burden Reduction from the Proposed Expansion of Crop Grouping Program” (Ref. 11). Although there are several uncertainties in the evaluation, for this proposed rule, EPA estimates that the cost savings from these proposed amendments to be approximately $55.1 million annually. The Agency estimates that the cost savings from creating the new herb group and expanding the commodities within it to be approximately $38.4 million annually. The Agency also estimates that the cost savings from the creation of a new spice group and the expansion of the commodities within it to be approximately $16.7 million annually.

While EPA's proposal estimates cost savings of $55.1 million, these estimates are based solely on the number of field trials potentially avoided by the crop grouping amendments being proposed. This limitation means that other sources of value to society, such as making it easier to register pesticides for minor herb or spice crop uses, are not captured in these estimates. While easier registration of pesticides would have value to growers, who would then have access to more means of pest control, this benefit is not quantitatively included in the value estimated by the reduced cost of field trials. Additionally, there is a potential for overestimation when using the value of reduced field trial costs to estimate the cost savings of this rule. Many of these crops may have never been the subject of a tolerance petition that required a field residue trial. Therefore, even if there is a demand for a pesticide on one of the herb or spice crops after a tolerance is granted, it does not reflect an actual savings, but merely a potential savings if a registrant or IR-4 were planning to submit field trial residue data to support a tolerance petition.

EPA's full analysis on the estimated burden reductions and cost savings is provided in the docket for this action at regulations.gov using Docket ID EPA-HQ-OPP-2006-0766. EPA welcomes feedback on the assumptions made in developing these estimates, as well as any additional information that may help the Agency to refine these estimates.

C. International Efforts and Considerations

1. North American Free Trade Agreement (NAFTA) partner involvement in the proposal. EPA's Office of Pesticide Programs' Chemistry Science Advisory Council (ChemSAC), an internal Agency peer review committee, provided detailed analyses (Ref. 7, 8, and 9) for each proposed crop group to IR-4, Canada's Pest Management Regulatory Agency (PMRA), and the government of Mexico for their review and comment, and invited these parties to participate in the ChemSAC meeting to finalize the recommendations for each petition. The results of the ChemSAC meeting finalizing the recommendations for proposal in this action are provided in the docket (Ref. 12).

PMRA has indicated that it will, in parallel with the United States effort and under the authority of Canada's Pest Control Products (PCP) Act (2002), establish equivalent crop groups. Additionally, once the new crop groups become effective in the United States, Mexico will have them as a reference for the establishment of maximum residue limits (MRLs) in Mexico.

2. Relationship of proposal to Codex activities. When Codex establishes MRLs for a pesticide chemical residue and EPA is not establishing tolerances at that same level, section 408 of the FFDCA calls for EPA to provide an explanation for its reasons for departing from that Codex level. In implementing this provision, EPA works to harmonize tolerance determinations with a Codex MRL whenever possible. This activity facilitates free trade and international movement of United States-produced goods. Further, since Canada is a key trading partner for United States agriculture, EPA also works closely with the Canadian pesticide registrar and similarly works to establish harmonized pesticide tolerance levels with Canada. Both Canada and Codex have adopted their own crop group schemes that are synchronized with and complement the efforts and goals of the crop grouping rulemaking efforts.

3. Policy for establishing import tolerances for individual spices. While not directly related to the proposed crop groups, this paragraph summarizes a recent EPA policy that relates to establishing “import tolerances” for spice commodities. In 2017, EPA instituted a policy of establishing “import tolerances” for pesticide residues based on monitoring data as a substitute for crop field trial residue data (Ref. 13). Because most spices are not grown in the United States, getting data from domestic field trials to support the establishment of tolerances for individual spices grown primarily overseas or the current spice subgroup is extremely unlikely. Establishing individual tolerances for pesticide residues on imported spices using monitoring data is consistent with current Codex practice and is expected to adequately cover pesticide residues in spices moving through the channels of trade. It should be noted, however, that data on the representative commodity of either dill seed or celery seed would still be necessary to support the establishment of a group 26 tolerance.

D. Scheme for Organization of Revised and Pre-Existing Crop Groups

EPA has amended the generic crop group regulations to include an explicit scheme for how revised crop groups will be organized in the regulations.

In brief, the current regulations at § 180.40(j) specify that when a crop group is amended in a manner that expands or contracts its coverage of commodities, EPA will retain the pre-existing crop group in 40 CFR180.41 and insert the new, related crop group immediately after the pre-existing crop group in the Code of Federal Regulations (CFR). Although EPA will initially retain pre-existing crop groups that have been superseded by new crop groups, 40 CFR180.41(j) states that EPA will not establish new tolerances under the pre-existing groups and that EPA will convert tolerances for any pre-existing crop groups to tolerances with the coverage of the new crop group. Conversions to revised crop groups are being implemented through the registration review process and in the course of establishing new tolerances for a pesticide.

As explained in Unit III.A., EPA believes it would benefit growers of herbs and spices to create two completely new and separate crop groups rather than to follow the 40 CFR180.41(j) process to create new crop group 19-19 for Herbs and Spices. As a result, the proposal to separate Crop Group 19 into Crop Groups 25 and 26, as discussed in Unit III, does not fully follow the process described in § 180.40(j). The current process does not adequately address the separation of an existing crop group into two or more crop groups in order to expand and clarify the coverage of commodities, nor do the proposals follow the naming or numbering conventions established in 40 CFR180.40(j). Therefore, to recognize that different processes may be appropriate in situations where an existing crop group may need to be separated into two or more distinct crop groups, EPA is proposing to revise paragraph (j) to outline how it intends to implement these types of crop group amendments.

III. Specific Proposed Revisions

This unit explains the proposed amendments to the crop group regulations.

A. Separation of Herbs and Spices in Crop Group 19: Herbs and Spices

EPA is proposing to separate the current “Crop Group 19: Herbs and Spices Group” into two separate crop groups, which will be the proposed “Crop Group 25: Herb Group” and “Crop Group 26: Spice Group.” Proposed Crop Groups 25 and 26 are discussed in more detail in the following sections of this unit. In accordance with the process outlined in 40 CFR180.40(j), Crop Group 19 will be retained in the CFR until all the tolerances for the pre-existing Crop Group 19 and its associated subgroups have been updated to comply with the newly proposed crop groups.

Separating the current herbs and spices crop group into a separate herb crop group and a spice crop group will benefit herb and spice growers. Combining the two sets of commodities together and requiring residue data on both herb and spice representative commodities has limited the establishment of Crop Group 19 tolerances because herb growers do not want to or cannot develop residue data on the spice representative commodities and vice versa for spice growers. Separating these groups will benefit herb growers by allowing them to submit representative crop data that reflects the commodities they produce and similarly, the separation will benefit spice growers.

A separate herb crop group and appropriate subgroups will provide a benefit to herb growers, as well as botanical herbs grown for medicinal purposes, since the representative commodities will only be herbs with similar characteristics. Also, a separate crop group for herbs allows for the subdivision of dried and fresh herbs into subgroups, which will be beneficial to herb growers because of the different practices for growing herbs for the fresh market and for the dried markets. As a result, these changes will make available new pesticides not previously available for crop protection for these herb commodities, and the tolerances established under the proposed crop groups and subgroups will be a better reflection of their crops. Similarly, a separate spice crop group will allow spices to be placed in a crop group that is more reflective of their edible parts and will provide a benefit to spice growers, as well as botanical spices grown for medicinal purposes, since the representative commodities will only be spices with similar uses and commonly grown in the United States.

Finally, separating herbs and spices into two crop groups will also help in harmonization with Codex which has two separate crop groups, one for herbs and one for spices.

B. Crop Group 25: Herb Group

EPA is proposing to establish a new crop group, entitled “Crop Group 25: Herb Group.” The following paragraphs describes this new crop grouping in more detail.

1. Commodities. EPA proposes to include the following 317 commodities in Crop Group 25: Agrimony, fresh leaves, Agrimonia eupatoria L.; Agrimony, dried leaves, Agrimonia eupatoria L.; Angelica, fresh leaves, Angelica archangelica L.; Angelica, dried leaves, Angelica archangelica L.; Angelica, fragrant, fresh leaves, Angelica dahurica (Hoffm.) Benth & Hook. F. ex Franch. & Sav.; Angelica, fragrant, dried leaves, Angelica dahurica (Hoffm.) Benth & Hook. F. ex Franch. & Sav.; Applemint, fresh leaves, Mentha suaveolens Ehrh.; Applemint, dried leaves, Mentha suaveolens Ehrh.; Avarum, fresh leaves, Senna auriculata (L.) Roxb.; Avarum, dried leaves, Senna auriculata (L.) Roxb.; Balm, fresh leaves, Melissa officinalis L.; Balm, dried leaves Melissa officinalis L.; Balloon pea, fresh leaves, Lessertia frutescens (L.) Goldblatt & J.C. Manning; Balloon pea, dried leaves, Lessertia frutescens (L.) Goldblatt & J.C. Manning; Barrenwort, fresh leaves, Epimedium grandiflorum C. Morren; Barrenwort, dried leaves, Epimedium grandiflorum C. Morren; Basil, fresh leaves, Ocimum basilicum L.; Basil, dried leaves, Ocimum basilicum L.; Basil, American, fresh leaves, Ocimum americanum L; Basil, American, dried leaves, Ocimum americanum L.; Basil, Greek, fresh leaves, Ocimum minimum L.; Basil, Greek, dried leaves, Ocimum minimum L.; Basil, holy, fresh leaves, Ocimum tenuiflorum L.; Basil, holy, dried leaves, Ocimum tenuiflorum L; Basil, lemon, fresh leaves, Ocimum x citriodorum Vis.; Basil, lemon, dried leaves, Ocimum x citriodorum Vis.; Basil, Russian, fresh leaves, Ocimum gratissimum L.; Basil, Russian, dried leaves, Ocimum gratissimum L.; Bay, fresh leaves, Laurus nobilis L.; Bay, dried leaves, Laurus nobilis L.; Bisongrass, fresh leaves, Anthoxanthum nitens (Weber) Y. Schouten & Veldkamp; Bisongrass, dried leaves, Anthoxanthum nitens (Weber) Y. Schouten & Veldkamp; Blue mallow, fresh leaves, Malva sylvestris L.; Boneset, fresh leaves, Eupatorium perfoliatum L.; Boneset, dried leaves, Eupatorium perfoliatum L.; Borage, fresh leaves, Borago officinalis L.; Borage, dried leaves, Borago officinalis L.; Borage, Indian, fresh leaves, Plectranthus amboinicus (Lour.) Spreng.; Borage, Indian, dried leaves, Plectranthus amboinicus (Lour.) Spreng.; Burnet, fresh leaves, Sanguisorba spp.; Burnet, dried leaves, Sanguisorba spp.; Burnet, garden, fresh leaves, Sanguisorba officinalis L.; Burnet, garden, dried leaves, Sanguisorba officinalis L.; Burnet, salad, fresh leaves, Sanguisorba minor Scop.; Burnet, salad, dried leaves, Sanguisorba minor Scop.; Butterbur, dried leaves, Petasites hybridus (L.) G. Gaertn. et al., P. frigidus (L.) Fr.; Calamint, fresh leaves, Clinopodium spp.; Calamint, dried leaves, Clinopodium spp.; Calamint, large-flower, fresh leaves, Clinopodium grandiflorum (L.) Kuntze; Calamint, large-flower, dried leaves, Clinopodium grandiflorum (L.) Kuntze; Calamint, lesser, fresh leaves, Clinopodium nepeta (L.) Kuntze; Calamint, lesser, dried leaves, Clinopodium nepeta (L.) Kuntze; Calendula, fresh leaves, Calendula officinalis L.; Calendula, dried leaves, Calendula officinalis L.; Caltrop, fresh leaves, Tribulus terrestris L; Caltrop, dried leaves, Tribulus terrestris L; Camomile (Chamomile), fresh leaves, Chamaemelum spp. and Matricaria spp.; Camomile (Chamomile), dried leaves, Chamaemelum spp. and Matricaria spp.; Camomile (Chamomile), German, fresh leaves, Matricaria recutita L.; Camomile (Chamomile), German, dried leaves, Matricaria recutita L.; Camomile (Chamomile), Roman, fresh leaves, Chamaemelum nobile (L.) All.; Camomile (Chamomile), Roman, dried leaves, Chamaemelum nobile (L.) All.; Caraway, fresh leaves, Carum carvi L; Caraway, dried leaves, Carum carvi L.; Cat's claw, dried leaves, Uncaria tomentosa (Willd.) DC., Uncaria guianensis (Aubl.) J.F. Gmel.; Catnip, fresh leaves, Nepeta cataria L.; Catnip, dried leaves, Nepeta cataria L.; Catnip, Japanese, fresh leaves, Schizonepeta multifida (L.) Briq.; Catnip, Japanese, dried leaves, Schizonepeta multifida (L.) Briq.; Celandine, greater, fresh leaves, Chelidonium majus L.; Celandine, lesser, fresh leaves, Ficaria verna Huds.; Centaury, fresh leaves, Centaurium erythrarae Rafn.; Centaury, dried leaves, Centaurium erythrarae Rafn.; Chaste tree, fresh leaves, Vitex agnus-castus L.; Chaste tree, dried leaves, Vitex agnus-castus L.; Chervil, dried leaves, Anthriscus cerefolium (L.) Hoffm.; Chinese chastetree, dried leaves, Vitex negundo L.; Chinese foxglove, dried leaves, Rehmannia glutinosa (Gaertn.) Steud.; Chive, dried leaves, Allium schoenoprasum L.; Chive, Chinese, dried leaves, Allium tuberosum Rottler ex Spreng.; Cicely, sweet, fresh leaves, Myrrhis odorata (L.) Scop.; Cicely, sweet, dried leaves, Myrrhis odorata (L.) Scop.; Cilantro, dried leaves, Coriandrum sativum L.; Clary, fresh leaves, Salvia sclarea L.; Clary, dried leaves, Salvia sclarea L.; Coriander, Bolivian, fresh leaves, Porophyllum ruderale (Jacq.) Cass.; Coriander, Bolivian, dried leaves, Porophyllum ruderale (Jacq.) Cass.; Coriander, Vietnamese, fresh leaves, Persicaria odorata (Lour.) Sojak.; Coriander, Vietnamese, dried leaves, Persicaria odorata (Lour.) Sojak.; Costmary, fresh leaves, Tanacetum balsamita L. subsp. Balsamita; Costmary, dried leaves, Tanacetum balsamita L. subsp. Balsamita; Creat, dried leaves, Andrographis paniculata (Burm. f.) Wall. Ex Nees; Culantro, fresh leaves, Eryngium foetidum L.; Culantro, dried leaves, Eryngium foetidum L.; Curry leaf, fresh leaves, Bergera koenigii L.; Curry leaf, dried leaves, Bergera koenigii L.; Curryplant, fresh leaves, Helichrysum italicum (Roth) G. Don; Cut leaf, fresh leaves, Prostanthera incisa R. Br.; Cut leaf, fresh leaves, Prostanthera incisa R. Br.; Dillweed, dried leaves, Anethum graveolens L.; Dokudami, fresh leaves, Houttuynia cordata Thunb.; Echinacea, dried leaves, Echinacea angustifolia DC; Epazote, fresh leaves, Dysphania ambrosioides (L.) Mosyakin & Clemants; Epazote, dried leaves, Dysphania ambrosioides (L.) Mosyakin & Clemants; Eucommia, dried leaves, Eucommia ulmoides Oliv; Evening primrose, fresh leaves, Oenothera biennis L.; Evening primrose, dried leaves, Oenothera biennis L.; Fennel, common, fresh leaves, Foeniculum vulgare Mill. subsp. vulgare var. vulgare; Fennel, common, dried leaves, Foeniculum vulgare Mill. Subsp. vulgare var. vulgare; Fennel, Florence, dried leaves, Foeniculum vulgare Mill. Subsp. vulgare var. azoricum (Mill.) Thell.; Fennel, Spanish, fresh leaves, Nigella spp; Fennel, Spanish, dried leaves, Nigella spp.; Fenugreek, fresh leaves, Trigonella foenum-graecum L.; Fenugreek, dried leaves, Trigonella foenum-graecum L; Feverfew, fresh leaves, Tanacetum parthenium (L.) Sch. Bip.; Feverfew, dried leaves, Tanacetum parthenium (L.) Sch. Bip; Field pennycress, fresh leaves, Thlaspi arvense L.; Flowers, edible, fresh, multiple species; Flowers, edible, dried, multiple species; Fumitory, fresh leaves, Fumaria officinalis L.; Fumitory, dried leaves, Fumaria officinalis L.; Galbanum, dried leaves, Ferula gummosa Boiss.; Gambir, fresh leaves, Uncaria gambir (W. Hunter) Roxb.; Geranium, fresh leaves, Pelargonium spp.; Geranium, dried leaves, Pelargonium spp.; Geranium, lemon, fresh leaves, Pelargonium crispum (P.J. Bergius) L'Her.; Geranium, lemon, dried leaves, Pelargonium crispum (P.J. Bergius) L'Her.; Geranium, rose, fresh leaves, Pelargonium graveolens L'Her.; Geranium, rose, dried leaves, Pelargonium graveolens L'Her.; Germander, golden, fresh leaves, Teucrium polium L.; Germander, golden, dried leaves, Teucrium polium L.; Gotu kola, dried leaves, Centella asiatica (L.) Urb.; Gumweed, fresh leaves, Grindelia camporum Greene; Gumweed, dried leaves, Grindelia camporum Greene; Gymnema, dried leaves, Gymnema sylvestre (Retz.) Schult.; Gypsywort, fresh leaves, Lycopus europaeus L.; Gypsywort, dried leaves, Lycopus europaeus L.; Heal-all, fresh leaves, Prunella vulgaris L.; Heal-all, dried leaves, Prunella vulgaris L.; Honewort, fresh leaves, Cryptotaenia canadensis (L.) DC.; Honeybush, dried leaves, Cyclopia genistoides (L.) R. Br.; Horehound, fresh leaves, Marrubium vulgare L.; Horehound, dried leaves, Marrubium vulgare L; Horsemint, fresh leaves, Mentha longifolia (L.) Huds.; Horsemint, dried leaves, Mentha longifolia (L.) Huds.; Hyssop, fresh leaves, Hyssopus officinalis L; Hyssop, dried leaves, Hyssopus officinalis L.; Hyssop, anise, fresh leaves, Agastache foeniculum (Pursh) Kuntze; Hyssop, anise, dried leaves, Agastache foeniculum (Pursh) Kuntze; Jasmine, fresh leaves, Jasminum officinale L., J. odoratissimum L.; Jasmine, dried leaves, Jasminum officinale L., J. odoratissimum L.; Labrador tea, fresh leaves, Rhododendron groenlandicum (Oeder) Kron & Judd, R. tomentosum Harmaja; Labrador tea, dried leaves, Rhododendron groenlandicum (Oeder) Kron & Judd, R. tomentosum Harmaja; Lavender, fresh leaves, Lavandula angustifolia Mill.; Lavender, dried leaves, Lavandula angustifolia Mill.; Lemongrass, fresh leaves, Cymbopogon citratus (DC.) Stapf; Lemongrass, dried leaves, Cymbopogon citratus (DC.) Stapf; Lemon verbena, fresh leaves, Aloysia citrodora Palau; Lemon verbena, dried leaves, Aloysia citrodora Palau; Lovage, fresh leaves, Levisticum officinale W.D.J. Koch; Lovage, dried leaves, Levisticum officinale W.D.J. Koch; Love-in-a-mist, fresh leaves, Nigella damascena L; Love-in-a-mist, dried leaves, Nigella damascena L.; Mamaki, dried leaves, Pipturus arborescens (Link) C.B. Rob.; Marigold, fresh leaves, Tagetes spp.; Marigold, dried leaves, Tagetes spp.; Marigold, African, fresh leaves, Tagetes erecta L.; Marigold, African, dried leaves, Tagetes erecta L.; Marigold, Aztec, fresh leaves, Tagetes minuta L; Marigold, Aztec, dried leaves, Tagetes minuta L.; Marigold, French, fresh leaves, Tagetes patula L.; Marigold, French, dried leaves, Tagetes patula L.; Marigold, Irish lace, fresh leaves, Tagetes filifolia Lag; Marigold, Irish lace, dried leaves, Tagetes filifolia Lag.; Marigold, licorice, fresh leaves, Tagetes micrantha Cav; Marigold, licorice, dried leaves, Tagetes micrantha Cav; Marigold, Mexican mint, fresh leaves, Tagetes lucida Cav.; Marigold, Mexican mint, dried leaves, Tagetes lucida Cav.; Marigold, signet, fresh leaves, Tagetes tenuifolia Cav.; Marigold, signet, dried leaves, Tagetes tenuifolia Cav.; Marjoram, fresh leaves, Origanum spp.; Marjoram, dried leaves, Origanum spp; Marjoram, pot, fresh leaves, Origanum onites L.; Marjoram, pot, dried leaves, Origanum onites L.; Marjoram, sweet, fresh leaves, Origanum majorana L.; Marjoram, sweet, dried leaves Origanum majorana L.; Marshmallow, fresh leaves, Althaea officinalis L.; Marshmallow, dried leaves, Althaea officinalis L.; Meadowsweet, fresh leaves, Filipendula ulmaria (L.) Maxim.; Meadowsweet, dried leaves, Filipendula ulmaria (L.) Maxim.; Mint, fresh leaves, Mentha spp.; Mint, dried leaves, Mentha spp.; Mint, corn, fresh leaves, Mentha arvensis L.; Mint, corn, dried leaves, Mentha arvensis L.; Mint, Korean, fresh leaves, Agastache rugosa (Fisch. & C.A. Mey.) Kun; Mint, Korean, dried leaves, Agastache rugosa (Fisch. & C.A. Mey.) Kun; Monarda, fresh leaves, Monarda spp.; Monarda, dried leaves, Monarda spp.; Motherwort, fresh leaves, Leonurus cardiaca L.; Motherwort, dried leaves, Leonurus cardiaca L.; Mountainmint, fresh leaves, Pycnanthemum spp; Mountainmint, dried leaves, Pycnanthemum spp; Mountainmint, clustered, fresh leaves, Pycnanthemum muticum (Michx.) Pers.; Mountainmint, clustered, dried leaves, Pycnanthemum muticum (Michx.) Pers.; Mountainmint, hoary, fresh leaves, Pycnanthemum incanum Michx.; Mountainmint, hoary, dried leaves, Pycnanthemum incanum Michx.; Mountainmint, Virginia, fresh leaves, Pycnanthemum virginianum (L.) T. Durand & B.D. Jacks. Ex B.L. Rob. & Fernald; Mountainmint, Virginia, dried leaves, Pycnanthemum virginianum (L.) T. Durand & B.D. Jacks. Ex B.L. Rob. & Fernald; Mountainmint, whorled, fresh leaves, Pycnanthemum verticillatum (Michx.) Pers.; Mountainmint, whorled, dried leaves, Pycnanthemum verticillatum (Michx.) Pers.; Mugwort, fresh leaves, Artemisia vulgaris L.; Mugwort, dried leaves, Artemisia vulgaris L.; Mulberry, white, dried leaves, Morus alba L.; Mullein, fresh leaves, Verbascum densiflorum Bertol., Verbascum spp.; Mullein, dried leaves, Verbascum densiflorum Bertol., Verbascum spp.; Nasturtium, fresh leaves, Tropaeolum spp; Nasturtium, dried leaves, Tropaeolum spp.; Nasturtium, bush fresh leaves, Tropaeolum minus L.; Nasturtium, bush dried leaves, Tropaeolum minus L.; Nasturtium, garden, fresh leaves, Tropaeolum majus L; Nasturtium, garden, dried leaves, Tropaeolum majus L; Nettle, fresh leaves, Urtica dioica L.; Nettle, dried leaves, Urtica dioica L.; Oregano, fresh leaves, Origanum vulgare L.; Oregano, dried leaves, Origanum vulgare L.; Oregano, Mexican, fresh leaves, Lippia graveolens Kunth; Oregano, Mexican, dried leaves, Lippia graveolens Kunth; Oregano, Puerto Rico, fresh leaves, Lippia micromera Schauer; Oregano, Puerto Rico, dried leaves, Lippia micromera Schauer; Oswego tea, fresh leaves, Monarda didyma L.; Oswego tea, dried leaves, Monarda didyma L.; Pandan leaf, fresh leaves, Pandanus amaryllifolius, Roxb.; Pandan leaf, dried leaves, Pandanus amaryllifolius, Roxb.; Pansy, fresh leaves, Viola tricolor L.; Pansy, dried leaves, Viola tricolor L; Paracress, fresh leaves, Acmella oleracea (L.) R.K. Jansen; Paracress, dried leaves, Acmella oleracea (L.) R.K. Jansen; Parsley, dried leaves, Petroselinum crispum (Mill.) Fuss; Pennyroyal, fresh leaves, Mentha pulegium L; Pennyroyal, dried leaves, Mentha pulegium L.; Peppermint, fresh leaves, Mentha x piperita L; Peppermint, dried leaves Mentha x piperita L.; Perilla, fresh leaves, Perilla frutescens (L.) Britton; Perilla, dried leaves, Perilla frutescens (L.) Britton; Rooibos, dried leaves, Aspalathus linearis (Burm. f.) R. Dahlgren; Rose, fresh leaves, Rosa spp.; Rose, dried leaves, Rosa spp; Rosemary, fresh leaves, Rosmarinus officinalis L.; Rosemary, dried leaves, Rosmarinus officinalis L.; Sage, fresh leaves, Salvia officinalis L.; Sage, dried leaves, Salvia officinalis L.; Sage, Greek, fresh leaves, Salvia fruticosa Mill.; Sage, Greek, dried leaves, Salvia fruticosa Mill.; Sage, Spanish, fresh leaves, Salvia lavandulifolia Vahl; Sage, Spanish, dried leaves, Salvia lavandulifolia Vahl; Savory, summer, fresh leaves, Satureja hortensis L.; Savory, summer, dried leaves, Satureja hortensis L; Savory, winter, fresh leaves, Satureja montana L.; Savory, winter, dried leaves, Satureja montana L.; Sorrel, fresh leaves, Rumex spp.; Sorrel, dried leaves, Rumex spp.; Sorrel, French, fresh leaves, Rumex scutatus L.; Sorrel, French, dried leaves, Rumex scutatus L.; Sorrel, garden, fresh leaves, Rumex acetosa L.; Sorrel, garden, dried leaves, Rumex acetosa L.; Southernwood, fresh leaves, Artemisia abrotanum L.; Southernwood, dried leaves, Artemisia abrotanum L.; Spearmint, fresh leaves, Mentha spicata L.; Spearmint, dried leaves, Mentha spicata L.; Spearmint, Scotch, fresh leaves, Mentha x gracilis Sole; Spearmint, Scotch, dried leaves, Mentha x gracilis Sole; Spotted beebalm, fresh leaves, Monarda punctata L.; Spotted beebalm, dried leaves, Monarda punctata L.; Squaw vine, dried leaves, Mitchella repens L.; St. John's Wort, dried leaves, Hypericum perforatum L.; Stevia, dried leaves, Stevia rebaudiana (Bertoni) Bertoni; Swamp leaf, fresh leaves, Limnophila chinensis (Osbeck) Merr.; Tansy, fresh leaves, Tanacetum vulgare L; Tansy, dried leaves, Tanacetum vulgare L.; Tarragon, fresh leaves, Artemisia dracunculus L.; Tarragon, dried leaves, Artemisia dracunculus L.; Thyme, fresh leaves, Thymus spp.; Thyme, dried leaves, Thymus spp.; Thyme, creeping, fresh leaves, Thymus serpyllum L; Thyme, creeping, dried leaves, Thymus serpyllum L.; Thyme, lemon, fresh leaves, Thymus ×citriodorus (Pers.) Schreb.; Thyme, lemon, dried leaves, Thymus ×citriodorus (Pers.) Schreb.; Thyme, mastic, fresh leaves, Thymus mastichina (L.) L.; Thyme, mastic, dried leaves, Thymus mastichina (L.) L.; Toon, Chinese, fresh leaves, Toona sinensis (A. Juss.) M. Roem.; Toon, Chinese, dried leaves, Toona sinensis (A. Juss.) M. Roem.; Vasaka, dried leaves, Justicia adhatoda L.; Veronica, fresh leaves, Veronica officinalis L.; Violet, fresh leaves, Viola odorata L.; Violet, dried leaves, Viola odorata L.; Watermint, fresh leaves, Mentha aquatica L; Watermint, dried leaves, Mentha aquatica L.; Waterpepper, fresh leaves, Persicaria hydropiper (L.) Delarbre; Wild bergamot, fresh leaves, Monarda fistulosa L.; Wild bergamot, dried leaves, Monarda fistulosa L.; Wintergreen, fresh leaves, Gaultheria procumbens L.; Wintergreen, dried leaves, Gaultheria procumbens L.; Wood betony, dried leaves, Stachys officinalis (L.) Trevis.; Woodruff, fresh leaves, Galium odoratum (L.) Scop.; Woodruff, dried leaves, Galium odoratum (L.) Scop.; Wormwood, fresh leaves, Artemisia absinthium L; Wormwood, dried leaves, Artemisia absinthium L.; Wormwood, Roman, fresh leaves, Artemisia pontica L.; Wormwood, Roman, dried leaves, Artemisia pontica L.; Yarrow, fresh leaves, Achillea millefolium L.; Yarrow, dried leaves, Achillea millefolium L.; Yellow gentian, fresh leaves, Gentiana lutea L.; Yellow gentian, dried leaves, Gentiana lutea L.; Yerba santa, fresh leaves, Eriodictyon californicum (Hook. & Arn.) Torr.; Yerba santa, dried leaves, Eriodictyon californicum (Hook. & Arn.) Torr.; Yomogi, fresh leaves, Artemisia princeps L.; Yomogi, dried leaves, Artemisia princeps L. Also included are cultivars, varieties, and hybrids of these commodities.

The 317 members of the new Crop Group 25 are proposed based on similarities of growth habits as well as herbs being either fresh or dried leaves, similar pest problems, sources of essential oil, lack of animal feed items, comparison of established tolerances, and for international harmonization purposes. This new Crop Group 25 would include all the herbs from the current Crop Group 19 with the following exceptions:

• Crop Group 19 and the herb subgroup 19A include both fresh and dried forms of chive (Allium schoenoprasum) and chive, Chinese (Allium tuberosum), whereas the proposed Crop Group 25 and dried herb sugroup 25B include only the dried forms of those chives. In 2007, EPA determined that pesticide residues on the fresh forms of chives would be similar to other bulb vegetable commodities and included them in Crop Group 3-07 (Ref. 1). To avoid dual coverage, EPA is removing the fresh forms of these chives from the herb group (crop group 25) and subgroup 25A.

• Crop Group 19 and the herb subgroup 19A include both the fresh and dried forms of coriander (cilantro or Chinese parsley leaf) (Coriandrum sativum) and dillweed (Anethum graveolens L.), whereas the proposed group and herb subgroup 25B include only the dried forms. In 2016, EPA determined that pesticide residues on the fresh forms of these commodities would be similar to other leafy vegetables and included them in Crop Group 4-16 (Ref. 4). To avoid dual coverage, EPA is removing the fresh forms of these chives from the herb group (crop group 25) and subgroup 25A.

• Although Crop Group 19 and herb subgroup 19A list rue (Ruta graveolens) as an herb, EPA is proposing to move rue to the new spice Crop Group 26. The reason for this modification is that rue is—due to similar crop growth, harvesting stages, pest pressures, and pesticide use patterns—expected to have pesticide residues more similar to other spices.

Adding these herb commodities into a separate herb group will benefit growers by enabling the use of pesticides not previously available for crop protection. Many minor herb orphan crops have become more popular in some countries and areas today than they were at the time that Crop Group 19 was established. Increased globalization of herbs in cooking in the United States has resulted in additional herbs to be enjoyed worldwide. Some of these “minor” crops have great potential to be grown on a larger scale in some areas in the future due to their unique nutritional and medicinal values. Because the demand for herbs keeps increasing in the United States, these crops may provide local market growers new revenue opportunities for fresh herbs with high returns per acre. Also, this crop group regulation will facilitate the establishment of pesticide tolerances for numerous pesticides that are needed to control a wide diversity of herb pests, as well as to develop integrated pest management (IPM) programs to incorporate reduced risk pesticides, organic and biopesticides, and cultural methods to reduce the development of pesticide resistance.

Being included in a crop group means that individual tolerances do not need to be established for each commodity nor does residue data need to be generated for each of the individual commodities. Allowing EPA's risk assessments to focus on the representative crop is reliable and efficient.

2. Representative commodities. EPA proposes the following commodities as representative commodities for the new Crop Group 25: Basil, fresh leaves; mint, fresh leaves; basil, dried leaves; and mint, dried leaves. The representative commodities are based on similarities to the related commodities within a group or subgroup regarding their edible portions, cultural methods, geographical locations, and pest problems, as well as considerations based on their high production (both acres and yield) and consumption compared to other crops in proposed Crop Group 25. Based on EPA's analysis for the proposed Crop Group 25, these representative commodities will account for more than 99% of the harvested United States acres for the members of the new crop group (Ref. 7).

Basil has been a representative commodity for the Crop Group 19 and for the herb subgroup 19A since 1995 and has several established tolerances. Mint, which will cover all members of the mint (Mentha spp.) family including peppermint and spearmint, is replacing chive as a representative commodity since it is more widely grown (240,000 hectares worldwide versus 24,000 hectares worldwide) (Ref 7.), and because chive, fresh leaves, are in a different crop group. Additionally, both basil and mint are important parts of many cuisines, especially European, Mediterranean, Indian and Asian cooking. EPA expects that all proposed members of the proposed crop group will have similar residue levels based on similarities of the raw agricultural commodities (RACs), and comparisons of established tolerances on these commodities support that residue levels will cover the wide number of commodities.

3. Crop subgroups. EPA proposes two crop subgroups for the new “Crop Group 25: Herb Group”: Subgroup 25A for fresh herbs and subgroup 25B for dried herbs. Comparisons of established tolerances proposed for the new herb, fresh leaves subgroup 25A and the new herb, dried leaves subgroup 25B have shown tolerances for dried herbs are often significantly higher (4X to 7.3X) than fresh herbs, indicating a need for different tolerances or subgroups for fresh and dried herbs (Ref. 7). In addition, fresh herbs are grown in a different way than dried herbs. Fresh herbs are grown more like fresh-cut flowers, and a high-quality product free of pests is required for their sale. Dried herbs, on the other hand, are grown like alfalfa and machine harvested with or without insect holes, which is not an issue for their sale. Dried herbs also have less storage problems than fresh herbs. Additionally, many herbs grown for dietary supplements are prepared in their dried forms, and all herb oils are also prepared from dried herbs. It is worth noting that 40 CFR180.40(f)(2) allows crop group tolerances to be established for processed commodities or fractions of commodities, such as “Herb, subgroup 25B, oil”.

Most commodities in proposed Crop Group 25 are included in both the fresh leaves and dried leaves forms and therefore would be in both proposed subgroups. However, there are 38 commodities that are included in proposed Crop Group 25 as only the fresh leaves or dried leaves. These are discussed briefly below; see Refs. 6—9 for more details.

For seven commodities, only the dried leaves are included in proposed Crop Group 25 because the fresh leaves are already included in a different crop group. Pesticide residues on the fresh forms of these commodities are expected to be similar to the commodities in another crop group than they are to herbs. These seven commodities and the crop group the fresh leaves are in are as follows:

• Chervil, Anthriscus cerefolium (L.) Hoffm; Cilantro, Coriandrum sativum L. (4-16); Dillweed, Anethum graveolens L.; and Parsley, Petroselinum crispum (Mill.) Fuss; Petroselinum crispum var. neapolitanum Danert in Crop Group 4-16 Leafy Vegetable Group;

• Chive, Allium schoenoprasum L. and Chive, Chinese, Allium tuberosum Rottler ex Spreng in Crop Group 3-07 Bulb Vegetable Group; and

• Fennel, Florence, fresh leaves and stalk in Crop Group 22 Stalk, Stem and Leaf Petiole Vegetable Group.

The other 30 commodities are included in proposed Crop Group 25 only in the dried leaves form or the fresh leaves form because only one form is currently utilized in commerce. For example, some are dietary supplements used only in the dried form, while other commodities are used in foods as only the fresh or dried form.

• Eleven commodities are included in proposed Crop Group 25 only in their fresh leaves form: Blue mallow, fresh leaves, Malva sylvestris L.; Celandine, greater, fresh leaves, Chelidonium majus L.; Celandine, lesser, fresh leaves, Ficaria verna Huds.; Curryplant, fresh leaves, Helichrysum italicum (Roth) G. Don; Dokudami, fresh leaves, Houttuynia cordata Thunb.; Field pennycress, fresh leaves, Thlaspi arvense L.; Gambir, fresh leaves, Uncaria gambir (W. Hunter) Roxb.; Honewort, fresh leaves, Cryptotaenia canadensis (L.) DC.; Swamp leaf, fresh leaves, Limnophila chinensis (Osbeck) Merr.; Veronica, fresh leaves, Veronica officinalis L.; and Waterpepper, fresh leaves, Persicaria hydropiper (L.) Delarbre.

• Nineteen commodities are included in proposed Group 25 only in their dried leaves form: Butterbur, dried leaves, Petasites hybridus (L.) G. Gaertn. Et al., P. frigidus (L.) Fr.; Cat's claw, dried leaves, Uncaria tomentosa (Willd.) DC., Uncaria guianensis (Aubl.) J.F. Gmel.; Chinese chastetree, dried leaves, Vitex negundo L.; Chinese foxglove, dried leaves, Rehmannia glutinosa (Gaertn.) Steud.; Creat, dried leaves, Andrographis paniculata (Burm. f.) Wall. Ex Nees; Echinacea, dried leaves, Echinacea angustifolia DC; Eucommia, dried leaves, Eucommia ulmoides Oliv.; Galbanum, dried leaves, Ferula gummosa Boiss.; Gotu kola, dried leaves, Centella asiatica (L.) Urb.; Gymnema, dried leaves, Gymnema sylvestre (Retz.) Schult.; Honeybush, dried leaves, Cyclopia genistoides (L.) R. Br.; Mamaki, dried leaves, Pipturus arborescens (Link) C. B. Rob.; Mulberry, white, dried leaves, Morus alba L.; Rooibos, dried leaves, Aspalathus linearis (Burm. f.) R. Dahlgren; Squaw vine, dried leaves, Mitchella repens L.; St. John's Wort, dried leaves, Hypericum perforatum L.; Stevia, dried leaves, Stevia rebaudiana (Bertoni) Bertoni; Vasaka, dried leaves, Justicia adhatoda L.; and Wood betony, dried leaves, Stachys officinalis (L.) Trevis.

EPA is considering revising the herb group and herb subgroups in the final rule to include both forms of the 30 commodities listed in the two previous paragraphs. Making this change would ensure coverage of residues in those other forms in case there are changes in how these commodities are used in the future, e.g., if the fresh leaves form is used in the future even though only the dried leaves form is used now. Recognizing the potential for confusion with pesticide applications to fresh and dried herbs, EPA intends, as a separate effort, to take into consideration approaches to labeling to ensure that pesticide labels clearly describe the list of herbs and their forms on which the pesticide can be used. EPA requests comments on including the 30 commodities in both forms in herb group 25 and its subgroups in the final rule.

i. Herb, fresh leaves subgroup 25A. (Representative commodities—Basil, fresh leaves and mint, fresh leaves). EPA is proposing 151 commodities in new subgroup 25A: Agrimony, fresh leaves, Agrimonia eupatoria L.; Angelica, fresh leaves; Angelica, fragrant, fresh leaves; Applemint, fresh leaves; Avarum, fresh leaves; Balm, fresh leaves; Balloon pea, fresh leaves; Barrenwort, fresh leaves; Basil, fresh leaves; Basil, American, fresh leaves; Basil, Greek, fresh leaves; Basil, holy, fresh leaves; Basil, lemon, fresh leaves; Basil, Russian, fresh leaves; Bay, fresh leaves; Bisongrass, fresh leaves; Blue mallow, fresh leaves; Boneset, fresh leaves; Borage, fresh leaves; Borage, Indian, fresh leaves; Burnet, fresh leaves; Burnet, garden, fresh leaves; Burnet, salad, fresh leaves; Calamint, fresh leaves; Calamint, large-flower, fresh leaves; Calamint, lesser, fresh leaves; Calendula, fresh leaves; Camomile (Chamomile), fresh leaves; Caltrop, fresh leaves; Camomile (Chamomile), German, fresh leaves; Camomile (Chamomile), Roman, fresh leaves; Caraway, fresh leaves; Catnip, fresh leaves; Catnip, Japanese, fresh leaves; Celandine, greater, fresh leaves; Celandine, lesser, fresh leaves; Centaury, fresh leaves; Chaste tree, fresh leaves; Cicely, sweet, fresh leaves; Clary, fresh leaves; Coriander, Bolivian, fresh leaves; Coriander, Vietnamese, fresh leaves; Costmary, fresh leaves; Culantro, fresh leaves; Curry leaf, fresh leaves; Curryplant, fresh leaves; Cut leaf, fresh leaves; Dokudami, fresh leaves; Epazote, fresh leaves; Evening primrose, fresh leaves; Fennel, common, fresh leaves; Fennel, Spanish, fresh leaves; Fenugreek, fresh leaves; Feverfew, fresh leaves; Field pennycress, fresh leaves; Flowers, edible, fresh, multiple species; Fumitory, fresh leaves; Gambir, fresh leaves; Geranium, fresh leaves; Geranium, lemon, fresh leaves; Geranium, rose, fresh leaves; Germander, golden, fresh leaves; Gumweed, fresh leaves; Gypsywort, fresh leaves; Heal-all, fresh leaves; Honewort, fresh leaves; Horehound, fresh leaves; Horsemint, fresh leaves; Hyssop, fresh leaves; Hyssop, anise, fresh leaves; Jasmine, fresh leaves; Labrador tea, fresh leaves; Lavender, fresh leaves; Lemongrass, fresh leaves; Lemon verbena, fresh leaves; Lovage, fresh leaves; Love-in-a-mist, fresh leaves; Marigold, fresh leaves; Marigold, African, fresh leaves; Marigold, Aztec, fresh leaves; Marigold, French, fresh leaves; Marigold, Irish lace, fresh leaves; Marigold, licorice, fresh leaves; Marigold, Mexican mint, fresh leaves; Marigold, signet, fresh leaves; Marjoram, fresh leaves; Marjoram, pot, fresh leaves; Marjoram, sweet, fresh leaves; Marshmallow, fresh leaves; Meadowsweet, fresh leaves; Mint, fresh leaves; Mint, corn, fresh leaves; Mint, Korean, fresh leaves; Motherwort, fresh leaves; Monarda, fresh leaves; Mountainmint, fresh leaves; Mountainmint, clustered, fresh leaves; Mountainmint, hoary, fresh leaves; Mountainmint, Virginia, fresh leaves; Mountainmint, whorled, fresh leaves; Mugwort, fresh leaves; Mullein, fresh leaves; Nasturtium, fresh leaves; Nasturtium, bush, fresh leaves; Nasturtium, garden, fresh leaves; Nettle, fresh leaves; Oregano, fresh leaves; Oregano, Mexican, fresh leaves; Oregano, Puerto Rico, fresh leaves; Oswego tea, fresh leaves; Pandan leaf, fresh leaves; Pansy, fresh leaves; Paracress, fresh leaves; Pennyroyal, fresh leaves; Peppermint, fresh leaves; Perilla, fresh leaves; Rose, fresh leaves; Rosemary, fresh leaves; Sage, fresh leaves; Sage, Greek, fresh leaves; Sage, Spanish, fresh leaves; Savory, summer, fresh leaves; Savory, winter, fresh leaves; Sorrel, fresh leaves; Sorrel, French, fresh leaves; Sorrel, garden, fresh leaves; Southernwood, fresh leaves; Spearmint, fresh leaves; Spearmint, Scotch, fresh leaves; Spotted beebalm, fresh leaves; Swamp leaf, fresh leaves; Tansy, fresh leaves; Tarragon, fresh leaves; Thyme, fresh leaves; Thyme, creeping, fresh leaves; Thyme, lemon, fresh leaves; Thyme, mastic, fresh leaves; Toon, Chinese, fresh leaves; Veronica, fresh leaves; Violet, fresh leaves; Watermint, fresh leaves; Waterpepper, fresh leaves; Wild bergamot, fresh leaves; Wintergreen, fresh leaves; Woodruff, fresh leaves; Wormwood, fresh leaves; Wormwood, Roman, fresh leaves; Yarrow, fresh leaves; Yellow gentian, fresh leaves; Yerba santa, fresh leaves; Yomogi, fresh leaves. Also included are cultivars, varieties, and hybrids of these commodities.

ii. Herb, dried leaves subgroup 25B. (Representative commodities—Basil, dried leaves and Mint, dried leaves). EPA is proposing 166 commodities in new subgroup 25B: Agrimony, dried leaves; Angelica, dried leaves; Angelica, fragrant, dried leaves; Applemint, dried leaves; Avarum, dried leaves; Balm, dried leaves; Balloon pea, dried leaves; Barrenwort, dried leaves; Basil, dried leaves; Basil, American, dried leaves; Basil, Greek, dried leaves; Basil, holy, dried leaves; Basil, lemon, dried leaves; Basil, Russian, dried leaves; Bay, dried leaves; Bisongrass, dried leaves; Boneset, dried leaves; Borage, dried leaves; Borage, Indian, dried leaves; Burnet, dried leaves; Burnet, garden, dried leaves; Burnet, salad, dried leaves; Butterbur, dried leaves; Calamint, dried leaves; Calamint, large-flower, dried leaves; Calamint, lesser, dried leaves; Calendula, dried leaves; Caltrop, dried leaves; Camomile (Chamomile), dried leaves; Camomile (Chamomile), German, dried leaves; Camomile (Chamomile), Roman, dried leaves; Caraway, dried leaves; Cat's claw, dried leaves; Catnip, dried leaves; Catnip, Japanese, dried leaves; Centaury, dried leaves; Chaste tree, dried leaves; Chervil, dried leaves; Chinese chastetree, dried leaves; Chinese foxglove, dried leaves; Chive, dried leaves; Chive, Chinese, dried leaves; Cicely, sweet, dried leaves; Cilantro, dried leaves; Clary, dried leaves; Coriander, Bolivian, dried leaves; Coriander, Vietnamese, dried leaves; Costmary, dried leaves; Creat, dried leaves; Culantro, dried leaves; Curry leaf, dried leaves; Cut leaf, dried leaves; Dillweed, dried leaves; Echinacea, dried leaves; Epazote, dried leaves; Eucommia, dried leaves; Evening primrose, dried leaves; Fennel, common, dried leaves; Fennel, Florence, dried leaves; Fennel, Spanish, dried leaves; Fenugreek, dried leaves; Feverfew, dried leaves; Flowers, edible, dried, multiple species; Fumitory, dried leaves; Galbanum, dried leaves; Geranium, dried leaves; Geranium, lemon, dried leaves; Geranium, rose, dried leaves; Germander, golden, dried leaves; Gotu kola, dried leaves; Gumweed, dried leaves; Gymnema, dried leaves; Gypsywort, dried leaves; Heal-all, dried leaves; Honeybush, dried leaves; Horehound, dried leaves; Horsemint, dried leaves; Hyssop, dried leaves; Hyssop, anise, dried leaves; Jasmine, dried leaves; Labrador tea, dried leaves; Lavender, dried leaves; Lemongrass, dried leaves; Lemon verbena, dried leaves; Lovage, dried leaves; Love-in-a-mist, dried leaves; Mamaki, dried leaves; Marigold, dried leaves; Marigold, African, dried leaves; Marigold, Aztec, dried leaves; Marigold, French, dried leaves; Marigold, Irish lace, dried leaves; Marigold, licorice, dried leaves; Marigold, Mexican mint, dried leaves; Marigold, signet, dried leaves; Marjoram, dried leaves; Marjoram, pot, dried leaves; Marjoram, sweet, dried leaves; Marshmallow, dried leaves; Meadowsweet, dried leaves; Mint, dried leaves; Mint, corn, dried leaves; Mint, Korean, dried leaves; Monarda, dried leaves; Motherwort, dried leaves; Mountainmint, dried leaves; Mountainmint, clustered, dried leaves; Mountainmint, hoary, dried leaves; Mountainmint, Virginia, dried leaves; Mountainmint, whorled, dried leaves; Mugwort, dried leaves; Mulberry, white, dried leaves; Mullein, dried leaves; Nasturtium, dried leaves; Nasturtium, bush, dried leaves; Nasturtium, garden, dried leaves; Nettle, dried leaves; Oregano, dried leaves; Oregano, Mexican, dried leaves; Oregano, Puerto Rico, dried leaves; Oswego tea, dried leaves; Pandan leaf, dried leaves; Pansy, dried leaves; Paracress, dried leaves; Parsley, dried leaves; Pennyroyal, dried leaves; Peppermint, dried leave; Perilla, dried leaves; Rooibos, dried leaves; Rose, dried leaves; Rosemary, dried leaves; Sage, dried leaves; Sage, Greek, dried leaves; Sage, Spanish, dried leaves; Savory, summer, dried leaves; Savory, winter, dried leaves; Sorrel, dried leaves; Sorrel, French, dried leaves; Sorrel, garden, dried leaves; Southernwood, dried leaves; Spearmint, dried leaves; Spearmint, Scotch, dried leaves; Spotted beebalm, dried leaves; Squaw vine, dried leaves; St. John's Wort, dried leaves; Stevia, dried leaves; Tansy, dried leaves; Tarragon, dried leaves; Thyme, dried leaves; Thyme, creeping, dried leaves; Thyme, lemon, dried leaves; Thyme, mastic, dried leaves; Toon, Chinese, dried leaves; Vasaka, dried leaves; Violet, dried leaves; Watermint, dried leaves; Wild bergamot, dried leaves; Wintergreen, dried leaves; Wood betony, dried leaves; Woodruff, dried leaves; Wormwood, dried leaves; Wormwood, Roman, dried leaves; Yarrow, dried leaves; Yellow gentian, dried leaves; Yerba santa, dried leaves; Yomogi, dried leaves. Also included are cultivars, varieties, and hybrids of these commodities.

4. Commodity definitions. In conjunction with the new Crop Group 25, EPA proposes three new commodity definitions for basil, edible flowers, and mint. In addition, EPA proposes to amend the commodity definition for marjoram. These commodity definitions are being proposed as specified in the proposed regulatory text to distinguish and define the various varieties of basil, edible flowers, marjoram, and mint. These proposed commodity definitions, which will be defined in 40 CFR180.1(g), cover both fresh and dried leaves to be consistent with the subgroups in proposed Crop Group 25.

The proposed basil commodity definition is needed since it is one of the proposed representative commodities and includes several types of basil species.

The proposed edible flowers definition is needed because there are many flowers that are used as herbs in restaurant cuisine and are available at limited times in grocery stores for the consumer. If listed separately in Crop Group 25, there would be over 100 additional commodities just for their edible flowers.

The proposed commodity definition for mint is needed since it is one of the representative commodities and includes several mint species (Mentha spp.), including peppermint and spearmint.

EPA is also proposing to revise the current commodity definition for marjoram. This revision is needed to reflect the proposed Crop Group 25 and correct plant species names.

C. Crop Group 26: Spice Group

EPA is proposing to establish a new crop group, entitled “Crop Group 26: Spice Group.”

1. Commodities. EPA proposes to include the following 166 commodities in Crop Group 26: Ajowan, seed, Trachyspermum ammi (L.) Sprague ex Turrill; Allspice, Pimenta dioica (L.) Merr; Ambrette seed, Abelmoschus esculentus (L.) Moench; Amia, Phyllanthus amarus Schumach; Angelica, seed, Angelica archangelica L.; Angostura bark, Angostura trifoliata (Willd.) T.S. Elias; Anise seed, Pimpinella anisum L; Anise pepper, Zanthoxylum piperitum (L.) DC.; Anise, star, Illicium verum Hook. f.; Annatto seed, Bixa orellana L.; Asafoetida, Ferula assa-foetida L.; Ashwagandha, fruit, Withania somnifera (L.) Dunal; Balsam, Peruvian, Myroxylon balsamum (L.) Harms var. pereirae; Batavia-cassia, fruit, Cinnamomum burmanni (Nees & T. Nees) Blume; Batavia-cassia, bark, Cinnamomum burmanni (Nees & T. Nees) Blume; Belleric myrobalan, Terminalia bellirica (Gaertn.) Roxb.; Betel vine, Piper betel L.; Black bread weed, Nigella arvensis L.; Blue mallee, Eucalyptus polybractea R.T. Baker; Boldo, leaves, Peumus boldus Molina; Buchi, Agathosma betulina (P.J. Bergius) Pillans; Calamus-root, Acorus calamus L.; Candlebush, Senna alata (L.) Roxb.; Canella bark, Canella winterana (L.) Gaertn; Caper buds, Capparis spinosa L.; Caraway, fruit, Carum carvi L.; Caraway, black, Nigella sativa L.; Cardamom, black, Amomum spp.; Cardamom, Ethiopian, Aframomum corrorima (A. Braun) P.C. M. Jansen; Cardamom, green, Elettaria cardamomum (L.) Maton; Cardamom, Nepal, Amomum subulatum Roxb., Amomum aromaticum Roxb.; Cardamom-amomum, Amomum compactum Sol. ex Maton; Cascada buckthorn, bark, Frangula purshiana (DC.) A. Gray; Cassia bark, Cinnamomum spp.; Cassia fruit, Cinnamomum spp.; Cassia, Chinese, fruit, Cinnamomum aromaticum Nees.; Cassia, Chinese, bark, Cinnamomum aromaticum Nees; Cat's claw, roots, Uncaria tomentosa (Willd.) DC., Uncaria guianensis (Aubl.) J.F. Gmel.; Catechu, bark, Senegalia catechu (L.f.) P.J.H. Hurter & Mabb.; Celery seed, Apium graveolens var. dulce (Mill.) Pers.; Chervil, seed, Anthriscus cerefolium (L.) Hoffm.; Chaste treeberry, berry, Vitex agnus-castus L.; Chinese chastetree, roots, Vitex negundo L.; Chinese hawthorn, Crataegus pinnatifida Bunge; Chinese nutmeg tree, Torreya grandis Fortune; Chinese-pepper, Zanthoxylum simulans Hance; Chinese prickly-ash, Zanthoxylum bungeanum Maxim; Cinnamon, bark, Cinnamomum verum J. Presl; Cinnamon, fruit, Cinnamomum verum J. Presl; Cinnamon, Saigon, fruit, Cinnamomum loureiroi Nees; Cinnamon, Saigon, bark, Cinnamomum loureiroi Nees; Clove buds, Syzygium aromaticum (L.) Merr. & L.M. Perry; Copaiba, Copaifera officinalis (Jacq.) L.; Coptis, Coptis, Coptis chinensis Franch., Coptis spp. Franch., Coptis spp.; Coriander, fruit, Coriandrum sativum L.; Coriander, seed, Coriandrum sativum L.; Cubeb, seed, Piper cubeba L.f.; Culantro, seed, Eryngium foetidum L.; Cumin, Cuminum cyminum L.; Cumin, black, Bunium persicum (Boiss.) B. Fedtsch.; Daharian angelica, leaves, Angelica dahurica (Hoffm.) Benth. & Hook. f. ex Franch. & Sav.; Daharian angelica, seed, Angelica dahurica (Hoffm.) Benth. & Hook. f. ex Franch. & Sav.; Damiana leaf, Turnera diffusa Willd.; Dill, seed, Anethum graveolens L.; Dorrigo pepper, berry, Tasmannia stipitata (Vick.) A.C. Smith; Dorrigo pepper, leaf, Tasmannia stipitata (Vick.) A.C. Smith; Epimedium, Epimedium spp.; Eucalyptus, Eucalyptus spp.; Eucommia, bark, Eucommia ulmoides Oliv.; Felty germander, Teucrium polium L.; Fennel, common, fruit, Foeniculum vulgare Mill. subsp. vulgare var. vulgare; Fennel, common, seed, Foeniculum vulgare Mill. subsp. vulgare var. vulgare; Fennel, Florence, fruit, Foeniculum vulgare Mill. subsp. vulgare var. azoricum (Mill.) Thell.; Fennel, Florence, seed, Foeniculum vulgare Mill. subsp. vulgare var. azoricum (Mill.) Thell.; Fennel flower, seed, Nigella hispanica L.; Fenugreek, seed, Trigonella foenum-graecum L.; Fingerroot, Boesenbergia rotunda (L.) Mansf.; Frankincense, Boswellia sacra Flueck.; Frankincense, Indian, Boswellia serrata Roxb. ex Colebr.; Galbanum, Ferula gummosa Boiss.; Gambooge, Garcinia gummi-gutta (L.) N. Robson; Grains of Paradise, Aframomum melegueta K. Schum.; Grains of Selim, Xylopia aethiopica (Dunal) A. Rich.; Guarana, Paullinia cupana Kunth; Guaiac, Guaiacum officinale L.; Guggul, Commiphora wightii (Arn.) Bhandari; Gum arabic, Senegalia senegal (L.) Britton; Gum ghatti, Anogeissus latifolia (Roxb. ex DC.) Wall. ex Guill. & Perr.; Gum karaya, Stercula urens Roxb; Gum tragacanth, Astragalus gummifer Labill.; Gymnema, dried leaves, Gymnema sylvestre (Retz.) Schult.; Haw, black, Viburnum prunifolium L.; Honewort, seed, Cryptotaenia canadensis (L.) DC.; Imperatoria, Peucedanum officinale L.; Iva, Achillea erba-rotta All. subsp. moschata (Wulfen) I. Richardson; Jalap, Ipomoea purga (Wender.) Hayne; Juniper berry, Juniperus communis L.; Kaffir lime, leaf, Citrus hystrix DC.; Kewra, Pandanus fascicularis Lam.; Kokam, Garcinia indica (Thouars) Choisy; Linden, dried leaves, Tilia americana L.; Lovage, seed, Levisticum officinale W.D.J. Koch; Mace, Myristica fragrans Houtt.; Magnolia-bark, Magnolia officinalis Rehder & E.H. Wilson; Mahaleb, Prunus mahaleb L.; Malabar cardamom, Amomum villosum Lour.; Malabathrum, Cinnamomum tamala (Buch.-Ham.) Nees & Eberm.; Malabar-tamarind, Garcinia spp.; Mastic, Pistacia lentiscus L.; Micromeria, white, Micromeria fruticosa (L.) Druce; Milk thistle, Silybum marianum (L.) Gaertn.; Mioga, Zingiber mioga (Thunb.) Roscoe; Miracle fruit, Synsepalum dulcificum (Schumach. & Thonn.) Daniell; Mustard seed, Brassica spp. and Sinapis spp.; Mustard, black (Brassica nigra (L.) W.D.J. Koch; Mustard, brown (Brassica juncea (L.) Czern. var. juncea; Mustard, white, Sinapis alba L. ssp. alba; Myrrh, Commiphora myrrha (Nees) Engl., Commiphora africana (A. Rich.) Engl.; Myrrh, bisabol, Commiphora kataf (Forssk.) Engl; Myrtle, dried leaves, Myrtus communis L.; Myrtle, anise, Syzygium anisatum (Vickery) Craven & Biffen; Myrtle, lemon, Backhousia citriodora F. Muell.; Nasturtium, pods, Tropaeolum spp.; Nasturtium, bush, pods, Tropaeolum minus L.; Nasturtium, garden, pods, Tropaeolum majus L.; Nutmeg, Myristica fragrans Houtt.; Pepper, black, Piper nigrum L.; Pepper, white, Piper nigrum L.; Pepper, Cubeb, Piper cubeba L.f.; Pepper, Indian long (Piper longum L.; Pepper, leaf, Piper auritum Kunth, Piper lolot C.DC, Piper sanctum (Miq.) Schltdl., Piper umbellatum L.; Pepper, Long, Piper longum L.; Pepper, Javanese Long, Piper retrofractum Vahl.; Pepper, Sichuan, Zanthoxylum spp.; Pepperbush, berry, Tasmannia spp.; Pepperbush, leaf, Tasmannia spp.; Peppertree, Schinus spp.; Peppertree, Brazilian, Schinus terebinthifolius Raddi; Peppertree, Peruvian, Schinus molle L.; Perilla leaf, Perilla frutescens (L.) Britton; Perilla seed, Perilla frutescens (L.) Britton; Pine, maritime, Pinus pinaster Aiton; Pipsissewa, leaves, Chimaphila umbellata (L.) W.P.C. Barton; Poppy seed, Papaver somniferum L. subsp. somniferum; Pygeum, Prunus africana (Hook.f.) Kalkman; Quassia, bark, Quassia amara L.; Quebracho bark, Aspidosperma quebracho-blanco Schltdl.; Quinine, Cinchona pubescens Vahl; Qing hua jiao, Zanthoxylum schinifolium Siebold & Zucc; Quillaja, Quillaja saponaria Molina; Rue, Ruta graveolens L.; Saffron crocus, Crocus sativus L.; Sassafras, leaves, Sassafras albidum (Nutt.) Nees; Saunders, red, Pterocarpus santalinus L.f.; Simaruba, bark, Simarouba amara Aubl.; Slippery elm, Ulmus rubra Muhl.; Sumac, fragrant, Rhus aromatica Aiton; Sumac, smooth leaf, Rhus glabra L.; Tasmanian pepper berry, Tasmannia lanceolata (Poir.) A.C. Sm.; Tasmanian pepper leaf, Tasmannia lanceolata (Poir.) A.C. Sm.; Tsao-Ko, Amomum tsao-ko Crevost & Lemarié; Vanilla, Vanilla planifolia Jacks.; Wattleseed, Acacia spp.; White willow, Salix alba L.; Yellow gentian, roots, Gentiana lutea L.; and Willow, Salix spp. Also included are cultivars, varieties, and hybrids of these commodities.

Spices are classified based on the specific plant part that is edible. Over 2,000 commodities were researched as being members of this crop group. The commodities proposed here were selected for this new crop group based on similarities of growth habits and edible plant parts that are exposed similarly to pesticides, geographical distribution, lack of animal feed items, comparison of established tolerances, and for international harmonization purposes. All the spices currently included in Crop Group 19 are proposed for inclusion in this new Crop Group 26.

Adding these spice commodities into a separate group will benefit these growers by enabling the use of pesticides not previously available for crop protection. Many minor spice orphan crops have become more popular in some countries and areas today than they were at the time Crop Group 19 was established. Increased globalization of spices in cooking in the United States has resulted in additional spices to be enjoyed worldwide. Some of these “minor” crops have great potential to be grown on a larger scale in some areas in the future due to their unique nutritional and medicinal values. Being included in a crop group means that individual tolerances do not need to be established for each commodity nor does residue data need to be generated for each of the individual commodities. Because the demand for spices keeps increasing in the United States, these crops may provide local market growers new revenue opportunities for spices with high returns per acre. Also, allowing EPA's risk assessments to focus on the representative crop is reliable and efficient.

2. Representative commodities. EPA proposes the option of one of the following two commodities as the representative commodity for the proposed Crop Group 26: Celery seed or Dill seed.

Most spices are not grown in the United States. Black pepper, which is one of the representative commodities required for Crop Group 19 and for subgroup 19B, is one such commodity that is not grown in the United States. Black pepper has therefore become an obstacle to the development of tolerances for herbs and spices in Crop Group 19 and for spices in subgroup 19B. For this reason, EPA proposes to no longer list black pepper as a representative commodity.

Crop Group 19 and subgroup 19B also provide a choice between celery seed or dill seed as one of the representative commodities, and EPA proposes to maintain this choice for Crop Group 26. Unlike black pepper, celery seed and dill seed are grown in the United States and would be significant representative commodities for the proposed Crop Group 26. Celery seed and dill seed have similar residue levels based on similarities of the raw agricultural commodities, cultural methods, pest problems, and exposure to pesticide sprays. The proposed representative commodities also cover over 99% of the total spice production areas in the United States, and they also tend to be an equal or more conservative estimate of tolerances and potential residues (Ref. 8). Therefore, EPA is proposing that the representative commodities for proposed Crop Group 26 be a choice between celery seed or dill seed.

3. No subgroups in new Crop Group 26. EPA proposes not to establish subgroups in new Crop Group 26. As stated previously, most spices are not grown in the United States. Crop subgroups for spices would not be beneficial because of the low acreage of these crops and their inability to be readily grown in the United States, with the exception of dill seed and celery seed. Additionally, since EPA is proposing a choice between celery seed or dill seed, testing on only one of these representative commodities will support a tolerance for all commodities listed in Crop Group 26, negating the need for subgroups at this time.

D. Other Changes

1. Revisions to 180.40(j)

As noted in Unit II.D., EPA is proposing to amend paragraph (j) to update the crop group revision process to include the current approach being taken in this rulemaking. For this rulemaking, EPA is proposing to amend the single Crop group 19 by splitting it into two new separate crop groups using different names and different numbers—i.e., commodities in “Herbs and Spices, group 19” would be separated into two new crop groups: “Herbs, group 25” and “Spices, group 26”. EPA's proposed amendment to paragraph (j) recognizes this process for revising crop groups.

The rest of the process mirrors the current process in 40 CFR180.41(j), where EPA would: (1) No longer establish tolerances under the pre-existing crop group; (2) amend tolerances for the pre-existing crop group to conform them to the revised crop group at appropriate times; and (3) remove the pre-existing crop group from the CFR once all the tolerances for the pre-existing crop group have been updated.

EPA plans to eventually convert tolerances for any pre-existing crop groups to tolerances with the coverage of the new crop group. This conversion will be implemented through the registration review process and in the course of establishing new tolerances for a pesticide. To this end, EPA requests that petitioners for tolerances address this issue in their petitions once this crop group rule is finalized.

IV. References

The following is a listing of the documents that are specifically referenced in this document. The docket includes these documents and other information considered by EPA, including documents that are referenced within the documents that are included in the docket, even if the referenced document is not physically located in the docket. For assistance in locating these other documents, please consult the person listed under FOR FURTHER INFORMATION CONTACT.

1. USEPA. Pesticide Tolerance Crop Grouping Program; Final Rule. Federal Register (72 FR 69150, December 7, 2007) (FRL-8343-1).

2. USEPA. Pesticide Tolerance Crop Grouping Program II; Revisions to General Tolerance Regulations; Final Rule. Federal Register (75 FR 76284, December 8, 2010) (FRL-8853-8).

3. USEPA. Pesticide Tolerance Crop Grouping Program III; Revisions to General Tolerance Regulations; Final Rule. Federal Register (77 FR 50617, August 22, 2012) (FRL-9354-3).

4. USEPA. Pesticide Tolerance Crop Grouping Program Amendment IV; Final Rule. Federal Register (81 FR 26471, May 3, 2016) (FRL-9944-87).

5. USEPA. Pesticide Tolerance Crop Grouping Program; Proposed Expansion; Proposed Rule. Federal Register (72 FR 28920, May 23, 2007) (FRL-8126-1).

6. USDA IR-4. Barney, William. USDA-IR-4 Petition to Amend the Crop Group Regulation 40 CFR 180.41(c)(26) and Commodity Definitions [40 CFR 180.1(g)] for Crop Group 19, Herb and Spice Group. May 29, 2008.

7. Schneider, Bernard A. EPA Memorandum: Crop Grouping—Part XVB: Analysis of the USDA IR-4 Petition to Amend the Crop Group Regulation 40 CFR 180.41(c)(26) and Commodity Definitions [40 CFR 180.1(g)] Related to Crop Group 19 Herb and Spice Group. Emphasis on New Herb Crop Group 25. June 8, 2015. Updated March 21, 2017.

8. Schneider, Bernard A. EPA Memorandum: Crop Grouping—Part XVC: Analysis of the USDA IR-4 Petition to Amend the Crop Group Regulation 40 CFR 180.41(c)(26) and Commodity Definitions [40 CFR 180.1(g)] Related to Crop Group 19 Herb and Spice Group. Emphasis on New Spice Crop Group 26. August 21, 2015. Updated March 20, 2017.

9. Schneider, Bernard A. EPA Memorandum: Crop Grouping—Part XVD: Appendices for the Analysis of the USDA IR-4 Petition to Amend the Crop Group Regulation 40 CFR 180.41(c)(26) and Commodity Definitions [40 CFR 180.1(g)] Related to Herb Crop Group 25 and Spice Crop Group 26. June 15, 2015.

10. USEPA. Economic Analysis of the Proposed Expansion of Crop Grouping Program. February 12, 2007. EPA Docket ID No. EPA-HQ-OPP-2006-0766-0012.

11. USEPA. Burden Reduction from the Proposed Expansion of Crop Grouping Program. June 26, 2019.

12. USEPA. Chemistry Science Advisory Council (ChemSAC) Meeting Minutes: Summary of ChemSAC Decisions/Discussion on Herb Crop Group 25 and Spice Crop Group 26. August 30, 2017.

13. USEPA. Chemistry Science Advisory Council (ChemSAC) Meeting Minutes: Use of Monitoring Data to Establish Import Tolerances for Pesticide Residues in Spices. May 10, 2017.

V. Statutory and Executive Order Reviews

Additional information about these statutes and Executive Orders can be found at http://www2.epa.gov/laws-regulations/laws-and-executive-orders.

A. Executive Order 12866: Regulatory Planning and Review and Executive Order 13563: Improving Regulation and Regulatory Review

This action is not a significant regulatory action and was therefore not submitted to the Office of Management and Budget (OMB) for review under Executive Orders 12866 (58 FR 51735; October 4, 1993) and 13563 (76 FR 3821, January 21, 2011).

B. Executive Order 13771: Reducing Regulations and Controlling Regulatory Costs

This action is expected to be an Executive Order 13771 deregulatory action. Details on the estimated cost savings of this proposed rule can be found in EPA's analysis of the potential costs and benefits associated with this action.

C. Paperwork Reduction Act (PRA)

This action does not impose any new information collection requirements that would require additional review or approval by OMB under the provisions of PRA, 44 U.S.C. 3501 et seq. However, this action is expected to reduce mandatory paperwork due to a reduction in required studies. This action will also have the effect of reducing the number of residue chemistry studies because fewer representative crops would need to be tested under a crop grouping scheme than would otherwise be required.

D. Regulatory Flexibility Act (RFA)

I certify that this action will not have a significant economic impact on a substantial number of small entities under the RFA. In making this determination, the impact of concern is any significant adverse economic impact on small entities. An agency may certify that a rule will not have a significant economic impact on a substantial number of small entities if the rule relieves regulatory burden, has no net burden or otherwise has a positive economic effect on the small entities subject to the rule. This proposed action provides regulatory relief and regulatory flexibility. The new crop groups ease the process for pesticide manufacturers to obtain pesticide tolerances on greater numbers of crops. Pesticides will be more widely available to growers for use on crops, particularly specialty crops. Rather than having any adverse impact on small businesses, this proposal would relieve regulatory burden for all directly regulated small entities.

E. Unfunded Mandates Reform Act (UMRA)

This action does not contain any unfunded mandate as described in UMRA, 2 U.S.C. 1531-1538, and does not significantly or uniquely affect small governments. This action imposes no enforceable duty on any state, local or tribal governments or the private sector.

F. Executive Order 13132: Federalism

This action does not have federalism implications as specified in Executive Order 13132 (64 FR 43255), August 4, 1999). It will not have substantial direct effects on the states, on the relationship between the national government and the states, or on the distribution of power and responsibilities among the various levels of government. Thus, Executive Order 13132 does not apply to this action.

G. Executive Order 13175: Consultation and Coordination With Indian Tribal Governments

This action does not have tribal implications as specified in Executive Order 13175 (62 FR 19985, April 23, 1997) because it will not have any effect on tribal governments, on the relationship between the Federal Government and the Indian tribes, or on the distribution of power and responsibilities between the Federal Government and Indian tribes. Thus, Executive Order 13175 does not apply to this action.

H. Executive Order 13045: Protection of Children From Environmental Health Risks and Safety Risks

EPA interprets Executive Order 13045 (62 FR 19885, April 23, 1997) as applying only to those regulatory actions that concern environmental health or safety risks that the EPA has reason to believe may disproportionately affect children, per the definition of “covered regulatory action” in section 2-202 of the Executive Order. This action is not subject to Executive Order 13045 because it does not concern an environmental health risk or safety risk.

I. Executive Order 13211: Actions That Significantly Affect Energy Supply, Distribution, or Use

This action is not subject to Executive Order 13211 (66 FR 28355, May 22, 2001), because it is not a significant regulatory action under Executive Order 12866, nor does it affect energy supply, distribution or use.

J. National Technology Transfer and Advancement Act (NTTAA)

This action does not involve technical standards that would require consideration of voluntary concensus standards pursuant to NTTAA section 12(d), 15 U.S.C. 272 note.

K. Executive Order 12898: Federal Actions To Address Environmental Justice in Minority Populations and Low-Income Populations

This action does not involve special consideration of environmental justice related issues as specified in Executive Order 12898 (59 FR 7629, February 16, 1994), because this action does not address human health or environmental risks or otherwise have any disproportionate high and adverse human health or environmental effects on minority, low-income or indigenous populations.

List of Subjects in 40 CFR Part 180

Administrative practice and procedure, Commodities, Environmental protection, Pesticides and pests.

Dated: August 15, 2019.
Alexandra Dapolito Dunn,
Assistant Administrator, Office of Chemical Safety and Pollution Prevention.

Therefore, it is proposed that 40 CFR chapter I be amended as follows:

PART 180—[AMENDED]

1. The authority citation for part 180 continues to read as follows:

Authority: 21 U.S.C. 321 (q), 346a and 371.

2. In § 180.1:

a. Add alphabetically the entries for “Basil”; “Flowers, edible, multiple species”; and “Mint” to the table in paragraph (g).

b. Revise the entry for “Marjoram” in the table in paragraph (g).

The additions and revision read as follows:

§ 180.1 Definitions and interpretations.

* * * * *

(g) * * *

A | B
* * * * * * *
Basil (Ocimum spp.) | Basil (Ocimum basilicum L.); Basil, American (Ocimum americanum L.); Basil, Greek (Ocimum minimum L.); Basil, holy (Ocimum tenuiflorum L.); Basil, lemon (Ocimum x citriodorum Vis.); Basil, Russian (Ocimum gratissimum L.).
* * * * * * *
Flowers, edible, multiple species | Nasturtium (Tropaeolum spp); Rose (Rosa spp.); Violet (Viola odorata L.); Acacia Blossoms (Acacia senegal (L.) Willd.); Alyssum, Sweet (Lobularia maritima (L.) Desv.); Anchusa, Garden (Anchusa azurea Mill.); Angelica (Angelica archangelica L.); Apricot, Japanese (Prunus mume Siebold & Zucc.); Arugula (Eruca sativa Mill.); Balm (Melissa officinalis L.); Banana (Musa spp.); Basil (Ocimum spp.); Begonia, Tuberous (Begonia x tuberhybrida Voss); Bilimbi (Averrhoa bilimbi L. ); Borage (Borago officinalis L.); Broccoli (Brassica oleracea L. var. italica Plenck); Burnet (Sanguisorba spp.); Calendula (Calendula officinalis L.); Caper (Capparis spinosa L.); Carambola (Averrhoa carambola L.); Carnation (Dianthus caryophyllus L.); Chamomile (Chamaemelum spp. and Matricaria spp.); Chervil (Anthriscus cerefolium (L.) Hoffm.); Chicory (Cichorium intybus L.); Chive, Chinese (Allium tuberosum Rottler ex Spreng.); Chrysanthemum (Chrysanthemum spp.); Clary (Salvia sclarea L.); Clove (Syzygium aromaticum (L.) Merr. & L.M. Perry); Clover, Red (Trifolium pratense L.); Coriander/Cilantro (Coriandrum sativum L.); Cornflower (Centaurea cyanus L.); Costmary (Tanacetum balsamita L. subsp. balsamita); Daisy, English (Bellis perennis L.); Dame's Rocket (Hesperis matronalis L.); Dandelion (Taraxacum officinale F. H. Wigg. aggr.); Daylily (Hemerocallis fulva (L.) L.); Dill (Anethum graveolens L.); Elder (Sambucus nigra L.); Feijoa (Acca sellowiana (O. Berg) Burret); Fennel (common) (Foeniculum vulgare Mill. subsp. vulgare var. vulgare); Frangipani (Plumeria rubra L.); Fuchsia (Fuchsia spp.); Gardenia (Gardenia jasminoides J. Ellis); Geranium (Pelargonium spp.); Geranium, Lemon (Pelargonium crispum (P.J. Bergius) L'Her.); Geranium, Rose (Pelargonium graveolens L'Hér.); Ginger, White (Hedychium coronarium J. Koenig); Gladiolus (Gladiolus spp.); Hibiscus (Hibiscus spp.); Hibiscus, Chinese (Hibiscus rosa-sinensis L.); Hollyhock (Alcea rosea L.); Honeysuckle, Japanese (Lonicera japonica Thunb.); Hyssop, anise (Agastache foeniculum (Pursh) Kuntze); Impatiens (Impatiens walleriana Hook. f.); Jasmine, Arabian (Jasminum sambac (L.) Aiton); Kewra (Pandanus fascicularis Lam.); Lavender (Lavandula angustifolia Mill.); Lemon (Citrus limon (L.) Burm. f.); Lilac (Syringa vulgaris L.); Lily, Mariposa (C. gunnisonii); Lily, Sego (C. nuttallii); Lotus (Nelumbo nucifera Gaertn.); Lovage (Levisticum officinale W.D.J. Koch); Mallow, High (Malva sylvestris L.); Marigold (Tagetes spp.); Marjoram (Origanum spp.); Meadowsweet (Filipendula ulmaria (L.) Maxim.); Mint (Mentha spp.); Mioga (Zingiber mioga (Thunb.) Roscoe); Monarda (Monarda spp.); Motherwort (Leonurus cardiaca L.); Mustard (Brassica spp. and Sinapis spp.); Nasturtium (Tropaeolum spp.); Okra (Abelmoschus esculentus (L.) Moench); Orange, Bitter (Citrus aurantium L.); Passion flower (Passiflora spp.); Pea Blossoms (Pisum sativum L. subsp. sativum var. sativum); Peach (Prunus persica (L.) Batsch var. persica); Peony, Common (Paeonia officinalis L.); Perilla (Perilla frutescens (L.) Britton); Petunia (Petunia x hybrida hort. ex E. Vilm.); Primrose (Primula vulgaris Huds.); Purslane, winter (Claytonia perfoliata Donn ex Willd.); Radish (Raphanus sativus L.); Redbud (Cercis canadensis L.); Rose (Rosa spp.); Rosemary (Rosmarinus officinalis L.); Rose-of-Sharon ((Hibiscus syriacus L.); Runner bean, Scarlet (Phaseolus coccineus L.); Safflower (Carthamus tinctorius L.); Sage (Salvia officinalis L.); Sage, Pineapple (Salvia elegans); Savory, Summer (Satureja hortensis L.); Saxifrage, Burnet (Pimpinella saxifraga L.); Snapdragon (Antirrhinum majus L.); Sorrel, Garden (Rumex acetosa L.); Sorrel, Wood (Oxalis acetosella L.); Squash (Cucurbita spp.); Stock, Gillyflower, Brompton stock (Matthiola incana (L.) W. T. Aiton); Sunflower (Helianthus annuus L.); Sweet William (Dianthus barbatus L.); Thyme (Thymus vulgaris L.); Tuberose (Polianthes tuberosa L.); Tulip (Tulipa spp.); Verbena, Lemon (Aloysia citrodora Palau); Violet (Viola spp.); Yucca (Yucca spp.), and other edible flowers.
* * * * * * *
Marjoram (Origanum spp.) | Marjoram (Origanum spp.); Marjoram, pot (Origanum onites L.); Marjoram, sweet (Origanum majorana L.); Oregano (Origanum vulgare L.).
* * * * * * *
Mint (Mentha spp.) | Mint (Mentha spp.); Applemint (Mentha suaveolens Ehrh.); Horsemint (Mentha longifolia (L.) Huds.); Mint, Corn (Mentha arvensis L.); Peppermint (Mentha. x piperita L.); Spearmint, (Mentha spicata L.); Spearmint, Scotch (Mentha x gracilis Sole); Watermint (Mentha aquatica L.); Pennyroyal (Mentha pulegium L.).
* * * * * * *

* * * * *

3. Amend § 180.40 by revising paragraph (j) to read as follows:

§ 180.40 Tolerances for crop groups.

* * * * *

(j)(1) When EPA amends a crop group in a manner that expands or contracts the commodities that are covered by the group, EPA will initially retain the pre-existing as well as the revised crop group in the CFR.

(2) Where the revised crop group has the same number as the pre-existing crop group, the revised crop group number will be followed by a hyphen and the final two digits of the year in which it was established (e.g., if Crop Group 1 is amended in 2007, the revised group will be designated as Crop Group 1-07). If the pre-existing crop group had crop subgroups, these subgroups will be numbered in a similar fashion in the revised crop group. The name of the revised crop group will not be changed from the pre-existing crop group unless the revision so changes the composition of the crop group that the pre-existing name is no longer accurate.

(3) Where EPA amends a crop group by creating one or more different crop groups, the revised crop groups will have different numbers and names (e.g., the amendment of Crop Group 19 through the creation of Crop Groups 25 and 26). The pre-existing crop group will be amended to identify the revised crop group(s).

(4) Once a revised crop group is established, EPA will no longer establish tolerances under the pre-existing crop group. At appropriate times, EPA will amend tolerances for crop groups that have been superseded by revised crop groups to conform the pre-existing crop group to the revised crop group. Once all of the tolerances for the pre-existing crop group have been updated, the pre-existing crop group will be removed from the CFR.

* * * * *

4. In § 180.41:

a. Add a new paragraph (c)(28)(iv) after the table in paragraph (iii).

b. Add new paragraphs (c)(34) and (35).

The additions read as follows:

§ 180.41 Crop group tables.

* * * * *

(c) * * *

(28) * * *

* * * * *

(iv) After [date of publication of final rule], new herb crop group and subgroup tolerances will be established as Crop Group 25 or subgroups 25A and 25B, and new spice crop group tolerances will be established as Crop Group 26.

* * * * *

(34) Crop Group 25. Herb Group.

(i) Representative commodities. Basil, dried leaves; Basil, fresh leaves; Mint, dried leaves; and Mint, fresh leaves.

(ii) Commodities. The following Table 1 lists all commodities included in Crop Group 25 and identifies the related crop subgroups.

Table 1—Crop Group 25: Herb Group
Commodities | Related crop subgroups
Agrimony, fresh leaves, Agrimonia eupatoria L | 25A
Agrimony, dried leaves, Agrimonia eupatoria L | 25B
Angelica, fresh leaves, Angelica archangelica L | 25A
Angelica, dried leaves, Angelica archangelica L | 25B
Angelica, fragrant, fresh leaves, Angelica dahurica (Hoffm.) Benth & Hook. F. ex Franch. & Sav | 25A
Angelica, fragrant, dried leaves, Angelica dahurica (Hoffm.) Benth & Hook. F. ex Franch. & Sav | 25B
Applemint, fresh leaves, Mentha suaveolens Ehrh | 25A
Applemint, dried leaves, Mentha suaveolens Ehrh | 25B
Avarum, fresh leaves, Senna auriculata (L.) Roxb | 25A
Avarum, dried leaves, Senna auriculata (L.) Roxb | 25B
Balm, fresh leaves, Melissa officinalis L | 25A
Balm, dried leaves, Melissa officinalis L | 25B
Balloon pea, fresh leaves, Lessertia frutescens (L.) Goldblatt & J.C. Manning | 25A
Balloon pea, dried leaves, Lessertia frutescens (L.) Goldblatt & J.C. Manning | 25B
Barrenwort, fresh leaves, Epimedium grandiflorum C. Morren | 25A
Barrenwort, dried leaves, Epimedium grandiflorum C. Morren | 25B
Basil, fresh leaves, Ocimum basilicum L | 25A
Basil, dried leaves, Ocimum basilicum L | 25B
Basil, American, fresh leaves, Ocimum americanum L | 25A
Basil, American, dried leaves, Ocimum americanum L | 25B
Basil, Greek, fresh leaves, Ocimum minimum L | 25A
Basil, Greek, dried leaves, Ocimum minimum L | 25B
Basil, holy, fresh leaves, Ocimum tenuiflorum L | 25A
Basil, holy, dried leaves, Ocimum tenuiflorum L | 25B
Basil, lemon, fresh leaves, Ocimum x citriodorum Vis | 25A
Basil, lemon, dried leaves, Ocimum x citriodorum Vis | 25B
Basil, Russian, fresh leaves, Ocimum gratissimum L | 25A
Basil, Russian, dried leaves, Ocimum gratissimum L | 25B
Bay, fresh leaves, Laurus nobilis L | 25A
Bay, dried leaves, Laurus nobilis L | 25B
Bisongrass, fresh leaves, Anthoxanthum nitens (Weber) Y. Schouten & Veldkamp | 25A
Bisongrass, dried leaves, Anthoxanthum nitens (Weber) Y. Schouten & Veldkamp | 25B
Blue mallow, fresh leaves, Malva sylvestris L | 25A
Boneset, fresh leaves, Eupatorium perfoliatum L | 25A
Boneset, dried leaves, Eupatorium perfoliatum L | 25B
Borage, fresh leaves, Borago officinalis L | 25A
Borage, dried leaves, Borago officinalis L | 25B
Borage, Indian, fresh leaves, Plectranthus amboinicus (Lour.) Spreng | 25A
Borage, Indian, dried leaves, Plectranthus amboinicus (Lour.) Spreng | 25B
Burnet, fresh leaves, Sanguisorba spp | 25A
Burnet, dried leaves, Sanguisorba spp | 25B
Burnet, garden, fresh leaves, Sanguisorba officinalis L | 25A
Burnet, garden, dried leaves, Sanguisorba officinalis L | 25B
Burnet, salad, fresh leaves Sanguisorba minor Scop | 25A
Burnet, salad, dried leaves Sanguisorba minor Scop | 25B
Butterbur, dried leaves, Petasites hybridus (L.) G. Gaertn. Et al., P. frigidus (L.) Fr | 25B
Calamint, fresh leaves, Clinopodium spp | 25A
Calamint, dried leaves, Clinopodium spp | 25B
Calamint, large-flower, fresh leaves, Clinopodium grandiflorum (L.) Kuntze | 25A
Calamint, large-flower, dried leaves, Clinopodium grandiflorum (L.) Kuntze | 25B
Calamint, lesser, fresh leaves, Clinopodium nepeta (L.) Kuntze | 25A
Calamint, lesser, dried leaves, Clinopodium nepeta (L.) Kuntze | 25B
Calendula, fresh leaves, Calendula officinalis L | 25A
Calendula, dried leaves, Calendula officinalis L | 25B
Caltrop, fresh leaves, Tribulus terrestris L | 25A
Caltrop, dried leaves, Tribulus terrestris L | 25B
Camomile (Chamomile), fresh leaves, Chamaemelum spp. and Matricaria spp | 25A
Camomile (Chamomile), dried leaves, Chamaemelum spp. and Matricaria spp | 25B
Camomile (Chamomile), German, fresh leaves, Matricaria recutita L | 25A
Camomile (Chamomile), German, dried leaves, Matricaria recutita L | 25B
Camomile (Chamomile), Roman, fresh leaves, Chamaemelum nobile (L.) AlL | 25A
Camomile (Chamomile), Roman, dried leaves, Chamaemelum nobile (L.) AlL | 25B
Caraway, fresh leaves, Carum carvi L | 25A
Caraway, dried leaves, Carum carvi L | 25B
Cat's claw, dried leaves, Uncaria tomentosa (Willd.) DC., Uncaria guianensis (Aubl.) J.F. GmeL | 25B
Catnip, fresh leaves, Nepeta cataria L | 25A
Catnip, dried leaves, Nepeta cataria L | 25B
Catnip, Japanese, fresh leaves, Schizonepeta multifida (L.) Briq | 25A
Catnip, Japanese, dried leaves, Schizonepeta multifida (L.) Briq | 25B
Celandine, greater, fresh leaves, Chelidonium majus L | 25A
Celandine, lesser, fresh leaves, Ficaria verna Huds | 25A
Centaury, fresh leaves, Centaurium erythrarae Rafn | 25A
Centaury, dried leaves, Centaurium erythrarae Rafn | 25B
Chaste tree, fresh leaves, Vitex agnus-castus L | 25A
Chaste tree, dried leaves, Vitex agnus-castus L | 25B
Chervil, dried leaves, Anthriscus cerefolium (L.) Hoffm | 25B
Chinese chastetree, dried leaves, Vitex negundo L | 25B
Chinese foxglove, dried leaves, Rehmannia glutinosa (Gaertn.) Steud | 25B
Chive, dried leaves, Allium schoenoprasum L | 25B
Chive, Chinese, dried leaves, Allium tuberosum Rottler ex Spreng | 25B
Cicely, sweet, fresh leaves, Myrrhis odorata (L.) Scop | 25A
Cicely, sweet, dried leaves, Myrrhis odorata (L.) Scop | 25B
Cilantro, dried leaves, Coriandrum sativum L | 25B
Clary, fresh leaves, Salvia sclarea L | 25A
Clary, dried leaves, Salvia sclarea L | 25B
Coriander, Bolivian, fresh leaves, Porophyllum ruderale (Jacq.) Cass | 25A
Coriander, Bolivian, dried leaves, Porophyllum ruderale (Jacq.) Cass | 25B
Coriander, Vietnamese, fresh leaves, Persicaria odorata (Lour.) Sojak | 25A
Coriander, Vietnamese, dried leaves, Persicaria odorata (Lour.) Sojak | 25B
Costmary, fresh leaves, Tanacetum balsamita L. subsp. Balsamita | 25A
Costmary, dried leaves, Tanacetum balsamita L. subsp. Balsamita | 25B
Creat, dried leaves, Andrographis paniculata (Burm. f.) Wall. Ex Nees | 25B
Culantro, fresh leaves, Eryngium foetidum L | 25A
Culantro, dried leaves, Eryngium foetidum L | 25B
Curry leaf, fresh leaves, Bergera koenigii L | 25A
Curry leaf, dried leaves, Bergera koenigii L | 25B
Curryplant, fresh leaves, Helichrysum italicum (Roth) G. Don | 25A
Cut leaf, fresh leaves, Prostanthera incisa R. Br | 25A
Cut leaf, dried leaves, Prostanthera incisa R. Br | 25B
Dillweed, dried leaves, Anethum graveolens L | 25B
Dokudami, fresh leaves, Houttuynia cordata Thunb | 25A
Echinacea, dried leaves, Echinacea angustifolia DC | 25B
Epazote, fresh leaves, Dysphania ambrosioides (L.) Mosyakin & Clemants | 25A
Epazote, dried leaves, Dysphania ambrosioides (L.) Mosyakin & Clemants | 25B
Eucommia, dried leaves, Eucommia ulmoides Oliv | 25B
Evening primrose, fresh leaves, Oenothera biennis L | 25A
Evening primrose, dried leaves, Oenothera biennis L | 25B
Fennel, common, fresh leaves, Foeniculum vulgare Mill. Subsp. vulgare var. vulgare | 25A
Fennel, common, dried leaves, Foeniculum vulgare Mill. Subsp. vulgare var. vulgare | 25B
Fennel, Florence, dried leaves, Foeniculum vulgare Mill. Subsp. vulgare var. azoricum (Mill.) ThelL | 25B
Fennel, Spanish, fresh leaves, Nigella spp | 25A
Fennel, Spanish, dried leaves, Nigella spp | 25B
Fenugreek, fresh leaves, Trigonella foenum-graecum L | 25A
Fenugreek, dried leaves, Trigonella foenum-graecum L | 25B
Feverfew, fresh leaves, Tanacetum parthenium (L.) Sch. Bip | 25A
Feverfew, dried leaves, Tanacetum parthenium (L.) Sch. Bip | 25B
Field pennycress, fresh leaves, Thlaspi arvense L | 25A
Flowers, edible, fresh, multiple species | 25A
Flowers, edible, dried, multiple species | 25B
Fumitory, fresh leaves, Fumaria officinalis L | 25A
Fumitory, dried leaves, Fumaria officinalis L | 25B
Galbanum, dried leaves, Ferula gummosa Boiss | 25B
Gambir, fresh leaves, Uncaria gambir (W. Hunter) Roxb | 25A
Geranium, fresh leaves, Pelargonium spp | 25A
Geranium, dried leaves, Pelargonium spp | 25B
Geranium, lemon, fresh leaves, Pelargonium crispum (P. J. Bergius) L'Her | 25A
Geranium, lemon, dried leaves, Pelargonium crispum (P. J. Bergius) L'Her | 25B
Geranium, rose, fresh leaves, Pelargonium graveolens L'Her | 25A
Geranium, rose, dried leaves, Pelargonium graveolens L'Her | 25B
Germander, golden, fresh leaves, Teucrium polium L | 25A
Germander, golden, dried leaves, Teucrium polium L | 25B
Gotu kola, dried leaves, Centella asiatica (L.) Urb | 25B
Gumweed, fresh leaves, Grindelia camporum Greene | 25A
Gumweed, dried leaves, Grindelia camporum Greene | 25B
Gymnema, dried leaves, Gymnema sylvestre (Retz.) Schult | 25B
Gypsywort, fresh leaves, Lycopus europaeus L | 25A
Gypsywort, dried leaves, Lycopus europaeus L | 25B
Heal-all, fresh leaves, Prunella vulgaris L | 25A
Heal-all, dried leaves, Prunella vulgaris L | 25B
Honewort, fresh leaves, Cryptotaenia canadensis (L.) DC | 25A
Honeybush, dried leaves, Cyclopia genistoides (L.) R. Br | 25B
Horehound, fresh leaves, Marrubium vulgare L | 25A
Horehound, dried leaves, Marrubium vulgare L | 25B
Horsemint, fresh leaves, Mentha longifolia (L.) Huds | 25A
Horsemint, dried leaves, Mentha longifolia (L.) Huds | 25B
Hyssop, fresh leaves, Hyssopus officinalis L | 25A
Hyssop, dried leaves, Hyssopus officinalis L | 25B
Hyssop, anise, fresh leaves, Agastache foeniculum (Pursh) Kuntze | 25A
Hyssop, anise, dried leaves, Agastache foeniculum (Pursh) Kuntze | 25B
Jasmine, fresh leaves, Jasminum officinale L., J. odoratissimum L | 25A
Jasmine, dried leaves, Jasminum officinale L., J. odoratissimum L | 25B
Labrador tea, fresh leaves, Rhododendron groenlandicum (Oeder) Kron & Judd, R. tomentosum Harmaja | 25A
Labrador tea, dried leaves, Rhododendron groenlandicum (Oeder) Kron & Judd, R. tomentosum Harmaja | 25B
Lavender, fresh leaves, Lavandula angustifolia MilL | 25A
Lavender, dried leaves, Lavandula angustifolia MilL | 25B
Lemongrass, fresh leaves, Cymbopogon citratus (DC.) Stapf | 25A
Lemongrass, dried leaves, Cymbopogon citratus (DC.) Stapf | 25B
Lemon verbena, fresh leaves, Aloysia citrodora Palau | 25A
Lemon verbena, dried leaves, Aloysia citrodora Palau | 25B
Lovage, fresh leaves, Levisticum officinale W.D.J. Koch | 25A
Lovage, dried leaves, Levisticum officinale W.D.J. Koch | 25B
Love-in-a-mist, fresh leaves, Nigella damascena L | 25A
Love-in-a-mist, dried leaves, Nigella damascena L | 25B
Mamaki, dried leaves, Pipturus arborescens (Link) C.B. Rob | 25B
Marigold, fresh leaves, Tagetes spp | 25A
Marigold, dried leaves, Tagetes spp | 25B
Marigold, African, fresh leaves, Tagetes erecta L | 25A
Marigold, African, dried leaves, Tagetes erecta L | 25B
Marigold, Aztec, fresh leaves, Tagetes minuta L | 25A
Marigold, Aztec, dried leaves, Tagetes minuta L | 25B
Marigold, French, fresh leaves, Tagetes patula L | 25A
Marigold, French, dried leaves, Tagetes patula L | 25B
Marigold, Irish lace, fresh leaves, Tagetes filifolia Lag | 25A
Marigold, Irish lace, dried leaves, Tagetes filifolia Lag | 25B
Marigold, licorice, fresh leaves, Tagetes micrantha Cav | 25A
Marigold, licorice, dried leaves, Tagetes micrantha Cav | 25B
Marigold, Mexican mint, fresh leaves, Tagetes lucida Cav | 25A
Marigold, Mexican mint, dried leaves, Tagetes lucida Cav | 25B
Marigold, signet, fresh leaves, Tagetes tenuifolia Cav | 25A
Marigold, signet, dried leaves, Tagetes tenuifolia Cav | 25B
Marjoram, fresh leaves, Origanum spp | 25A
Marjoram, dried leaves, Origanum spp | 25B
Marjoram, pot, fresh leaves, Origanum onites L | 25A
Marjoram, pot, dried leaves, Origanum onites L | 25B
Marjoram, sweet, fresh leaves, Origanum majorana L | 25A
Marjoram, sweet, dried leaves, Origanum majorana L | 25B
Marshmallow, fresh leaves, Althaea officinalis L | 25A
Marshmallow, dried leaves, Althaea officinalis L | 25B
Meadowsweet, fresh leaves, Filipendula ulmaria (L.) Maxim | 25A
Meadowsweet, dried leaves, Filipendula ulmaria (L.) Maxim | 25B
Mint, fresh leaves, Mentha spp | 25A
Mint, dried leaves, Mentha spp | 25B
Mint, corn, fresh leaves, Mentha arvensis L | 25A
Mint, corn, dried leaves, Mentha arvensis L | 25B
Mint, Korean, fresh leaves, Agastache rugosa (Fisch. & C.A. Mey.) Kun | 25A
Mint, Korean, dried leaves, Agastache rugosa (Fisch. & C.A. Mey.) Kun | 25B
Monarda, fresh leaves, Monarda spp | 25A
Monarda, dried leaves, Monarda spp | 25B
Motherwort, fresh leaves, Leonurus cardiaca L | 25A
Motherwort, dried leaves, Leonurus cardiaca L | 25B
Mountainmint, fresh leaves, Pycnanthemum spp | 25A
Mountainmint, dried leaves, Pycnanthemum spp | 25B
Mountainmint, clustered, fresh leaves, Pycnanthemum muticum (Michx.) Pers | 25A
Mountainmint, clustered, dried leaves, Pycnanthemum muticum (Michx.) Pers | 25B
Mountainmint, hoary, fresh leaves, Pycnanthemum incanum Michx | 25A
Mountainmint, hoary, dried leaves, Pycnanthemum incanum Michx | 25B
Mountainmint, Virginia, fresh leaves, Pycnanthemum virginianum (L.) T. Durand & B.D. Jacks. Ex B.L. Rob. & FernaL | 25A
Mountainmint, Virginia, dried leaves, Pycnanthemum virginianum (L.) T. Durand & B.D. Jacks. ex B.L. Rob. & FernaL | 25B
Mountainmint, whorled, fresh leaves, Pycnanthemum verticillatum (Michx.) Pers | 25A
Mountainmint, whorled, dried leaves, Pycnanthemum verticillatum (Michx.) Pers | 25B
Mugwort, fresh leaves, Artemisia vulgaris L | 25A
Mugwort, dried leaves, Artemisia vulgaris L | 25B
Mulberry, white, dried leaves, Morus alba L | 25B
Mullein, fresh leaves, Verbascum densiflorum Bertol., Verbascum spp | 25A
Mullein, dried leaves, Verbascum densiflorum Bertol., Verbascum spp | 25B
Nasturtium, fresh leaves, Tropaeolum spp | 25A
Nasturtium, dried leaves, Tropaeolum spp | 25B
Nasturtium, bush fresh leaves, Tropaeolum minus L | 25A
Nasturtium, bush dried leaves, Tropaeolum minus L | 25B
Nasturtium, garden, fresh leaves, Tropaeolum majus L | 25A
Nasturtium, garden, dried leaves, Tropaeolum majus L | 25B
Nettle, fresh leaves, Urtica dioica L | 25A
Nettle, dried leaves, Urtica dioica L | 25B
Oregano, fresh leaves, Origanum vulgare L | 25A
Oregano, dried leaves, Origanum vulgare L | 25B
Oregano, Mexican, fresh leaves, Lippia graveolens Kunth | 25A
Oregano, Mexican, dried leaves, Lippia graveolens Kunth | 25B
Oregano, Puerto Rico, fresh leaves, Lippia micromera Schauer | 25A
Oregano, Puerto Rico, dried leaves, Lippia micromera Schauer | 25B
Oswego tea, fresh leaves, Monarda didyma L | 25A
Oswego tea, dried leaves, Monarda didyma L | 25B
Pandan leaf, fresh leaves, Pandanus amaryllifolius, Roxb | 25A
Pandan leaf, dried leaves, Pandanus amaryllifolius, Roxb | 25B
Pansy, fresh leaves, Viola tricolor L | 25A
Pansy, dried leaves, Viola tricolor L | 25B
Paracress, fresh leaves, Acmella oleracea (L.) R.K. Jansen | 25A
Paracress, dried leaves, Acmella oleracea (L.) R.K. Jansen | 25B
Parsley, dried leaves, Petroselinum crispum (Mill.) Fuss | 25B
Pennyroyal, fresh leaves, Mentha pulegium L | 25A
Pennyroyal, dried leaves, Mentha pulegium L | 25B
Peppermint, fresh leaves, Mentha x piperita L | 25A
Peppermint, dried leaves, Mentha x piperita L | 25B
Perilla, fresh leaves, Perilla frutescens (L.) Britton | 25A
Perilla, dried leaves, Perilla frutescens (L.) Britton | 25B
Rooibos, dried leaves, Aspalathus linearis (Burm. f.) R. Dahlgren | 25B
Rose, fresh leaves, Rosa spp | 25A
Rose, dried leaves, Rosa spp | 25B
Rosemary, fresh leaves, Rosmarinus officinalis L | 25A
Rosemary, dried leaves, Rosmarinus officinalis L | 25B
Sage, fresh leaves, Salvia officinalis L | 25A
Sage, dried leaves, Salvia officinalis L | 25B
Sage, Greek, fresh leaves, Salvia fruticosa MilL | 25A
Sage, Greek, dried leaves, Salvia fruticosa MilL | 25B
Sage, Spanish, fresh leaves, Salvia lavandulifolia Vahl | 25A
Sage, Spanish, dried leaves, Salvia lavandulifolia Vahl | 25B
Savory, summer, fresh leaves, Satureja hortensis L | 25A
Savory, summer, dried leaves, Satureja hortensis L | 25B
Savory, winter, fresh leaves, Satureja montana L | 25A
Savory, winter, dried leaves, Satureja montana L | 25B
Sorrel, fresh leaves, Rumex spp | 25A
Sorrel, dried leaves, Rumex spp | 25B
Sorrel, French, fresh leaves, Rumex scutatus L | 25A
Sorrel, French, dried leaves, Rumex scutatus L | 25B
Sorrel, garden, fresh leaves, Rumex acetosa L | 25A
Sorrel, garden, dried leaves, Rumex acetosa L | 25B
Southernwood, fresh leaves, Artemisia abrotanum L | 25A
Southernwood, dried leaves, Artemisia abrotanum L | 25B
Spearmint, fresh leaves, Mentha spicata L | 25A
Spearmint, dried leaves, Mentha spicata L | 25B
Spearmint, Scotch, fresh leaves, Mentha x gracilis SoL | 25A
Spearmint, Scotch, dried leaves, Mentha x gracilis SoL | 25B
Spotted beebalm, fresh leaves, Monarda punctata L | 25A
Spotted beebalm, dried leaves, Monarda punctata L | 25B
Squaw vine, dried leaves, Mitchella repens L | 25B
St. John's Wort, dried leaves, Hypericum perforatum L | 25B
Stevia, dried leaves, Stevia rebaudiana (Bertoni) Bertoni | 25B
Swamp leaf, fresh leaves, Limnophila chinensis (Osbeck) Merr | 25A
Tansy, fresh leaves, Tanacetum vulgare L | 25A
Tansy, dried leaves, Tanacetum vulgare L | 25B
Tarragon, fresh leaves, Artemisia dracunculus L | 25A
Tarragon, dried leaves, Artemisia dracunculus L | 25B
Thyme, fresh leaves, Thymus spp | 25A
Thyme, dried leaves, Thymus spp | 25B
Thyme, creeping, fresh leaves, Thymus serpyllum L | 25A
Thyme, creeping, dried leaves, Thymus serpyllum L | 25B
Thyme, lemon, fresh leaves, Thymus x citriodorus (Pers.) Schreb | 25A
Thyme, lemon, dried leaves, Thymus x citriodorus (Pers.) Schreb | 25B
Thyme, mastic, fresh leaves, Thymus mastichina (L.) L | 25A
Thyme, mastic, dried leaves, Thymus mastichina (L.) L | 25B
Toon, Chinese, fresh leaves, Toona sinensis (A. Juss.) M. Roem | 25A
Toon, Chinese, dried leaves, Toona sinensis (A. Juss.) M. Roem | 25B
Vasaka, dried leaves, Justicia adhatoda L | 25B
Veronica, fresh leaves, Veronica officinalis L | 25A
Violet, fresh leaves, Viola odorata L | 25A
Violet, dried leaves, Viola odorata L | 25B
Watermint, fresh leaves, Mentha aquatica L | 25A
Watermint, dried leaves, Mentha aquatica L | 25B
Waterpepper, fresh leaves, Persicaria hydropiper (L.) Delarbre | 25A
Wild bergamot, fresh leaves, Monarda fistulosa L | 25A
Wild bergamot, dried leaves, Monarda fistulosa L | 25B
Wintergreen, fresh leaves, Gaultheria procumbens L | 25A
Wintergreen, dried leaves, Gaultheria procumbens L | 25B
Wood betony, dried leaves, Stachys officinalis (L.) Trevis | 25B
Woodruff, fresh leaves, Galium odoratum (L.) Scop | 25A
Woodruff, dried leaves, Galium odoratum (L.) Scop | 25B
Wormwood, fresh leaves, Artemisia absinthium L | 25A
Wormwood, dried leaves, Artemisia absinthium L | 25B
Wormwood, Roman, fresh leaves, Artemisia pontica L | 25A
Wormwood, Roman, dried leaves, Artemisia pontica L | 25B
Yarrow, fresh leaves, Achillea millefolium L | 25A
Yarrow, dried leaves, Achillea millefolium L | 25B
Yellow gentian, fresh leaves, Gentiana lutea L | 25A
Yellow gentian, dried leaves, Gentiana lutea L | 25B
Yerba santa, fresh leaves, Eriodictyon californicum (Hook. & Arn.) Torr | 25A
Yerba santa, dried leaves, Eriodictyon californicum (Hook. & Arn.) Torr | 25B
Yomogi, fresh leaves, Artemisia princeps L | 25A
Yomogi, dried leaves, Artemisia princeps L | 25B
Cultivars, varieties, and hybrids of these commodities |

(iii) Crop subgroups. The following Table 2 identifies the crop subgroups for Crop Group 25, specifies the representative commodities for each subgroup, and lists all the commodities included in each subgroup.

Table 2—Crop Group 25: Subgroup Listing
Representative commodities | Commodities
Crop Subgroup 25A. Herb Fresh Leaves Subgroup
Basil, fresh leaves and mint, fresh leaves | Agrimony, fresh leaves; Angelica, fresh leaves; Angelica, fragrant, fresh leaves; Applemint, fresh leaves; Avarum, fresh leaves; Balloon pea, fresh leaves; Barrenwort, fresh leaves; Balm, fresh leaves; Basil, fresh leaves; Basil, American, fresh leaves; Basil, Greek, fresh leaves; Basil, holy, fresh leaves; Basil, lemon, fresh leaves; Basil, Russian, fresh leaves; Bay, fresh leaves; Bisongrass, fresh leaves; Blue mallow, fresh leaves; Boneset, fresh leaves; Borage, fresh leaves; Borage, Indian, fresh leaves; Burnet, fresh leaves; Burnet, garden, fresh leaves; Burnet, salad, fresh leaves; Calamint, fresh leaves; Calamint, large-flower, fresh leaves; Calamint, lesser, fresh leaves; Calendula, fresh leaves; Caltrop, fresh leaves; Camomile, fresh leaves; Camomile, German, fresh leaves; Camomile, Roman, fresh leaves; Caraway, fresh leaves; Catnip, fresh leaves; Catnip, Japanese, fresh leaves; Celandine, greater, fresh leaves; Celandine, lesser, fresh leaves; Centaury, fresh leaves; Chaste tree, fresh leaves; Cicely, sweet, fresh leaves; Clary, fresh leaves; Coriander, Bolivian, fresh leaves; Coriander, Vietnamese, fresh leaves; Costmary, fresh leaves; Culantro, fresh leaves; Curry leaf, fresh leaves; Curryplant, fresh leaves; Cut leaf, fresh leaves; Dokudami, fresh leaves; Epazote, fresh leaves; Evening primrose, fresh leaves; Fennel, common, fresh leaves; Fennel, Spanish, fresh leaves; Fenugreek, fresh leaves; Feverfew, fresh leaves; Field pennycress, fresh leaves; Flowers, edible, fresh; Fumitory, fresh leaves; Gambir, fresh leaves; Geranium, fresh leaves; Geranium, lemon, fresh leaves; Geranium, rose, fresh leaves; Germander, golden, fresh leaves; Gumweed, fresh leaves; Gypsywort, fresh leaves; Heal-all, fresh leaves; Honewort, fresh leaves; Horehound, fresh leaves; Horsemint, fresh leaves; Hyssop, fresh leaves; Hyssop, anise, fresh leaves; Jasmine, fresh leaves; Labrador tea, fresh leaves; Lavender, fresh leaves; Lemongrass, fresh leaves; Lemon verbena, fresh leaves; Lovage, fresh leaves; Love-in-a-mist, fresh leaves; Marigold, fresh leaves; Marigold, African, fresh leaves; Marigold, Aztec, fresh leaves; Marigold, French, fresh leaves; Marigold, Irish lace, fresh leaves; Marigold, licorice, fresh leaves; Marigold, Mexican mint, fresh leaves; Marigold, signet, fresh leaves; Marjoram, fresh leaves; Marjoram, pot, fresh leaves; Marjoram, sweet, fresh leaves; Marshmallow, fresh leaves; Meadowsweet, fresh leaves; Mint, fresh leaves; Mint, corn, fresh leaves; Mint, Korean, fresh leaves; Monarda, fresh leaves; Motherwort, fresh leaves; Mountainmint, fresh leaves; Mountainmint, clustered, fresh leaves; Mountainmint, hoary, fresh leaves; Mountainmint, Virginia, fresh leaves; Mountainmint, whorled, fresh leaves; Mugwort, fresh leaves; Mullein, fresh leaves; Nasturtium, fresh leaves; Nasturtium, bush, fresh leaves; Nasturtium, garden, fresh leaves; Nettle, fresh leaves; Oregano, fresh leaves; Oregano, Mexican, fresh leaves; Oregano, Puerto Rico, fresh leaves; Oswego tea, fresh leaves; Pandan leaf, fresh leaves; Pansy, fresh leaves; Paracress, fresh leaves; Pennyroyal, fresh leaves; Peppermint, fresh leaves; Perilla, fresh leaves; Rose, fresh leaves; Rosemary, fresh leaves; Sage, fresh leaves; Sage, Greek, fresh leaves; Sage, Spanish, fresh leaves; Savory, summer, fresh leaves; Savory, winter, fresh leaves; Sorrel, fresh leaves; Sorrel, French, fresh leaves; Sorrel, garden, fresh leaves; Southernwood, fresh leaves; Spearmint, fresh leaves; Spearmint, Scotch, fresh leaves; Spotted beebalm, fresh leaves; Swamp leaf, fresh leaves; Tansy, fresh leaves; Tarragon, fresh leaves; Thyme, fresh leaves; Thyme, creeping, fresh leaves; Thyme, lemon, fresh leaves; Thyme, mastic, fresh leaves; Toon, Chinese, fresh leaves; Veronica, fresh leaves; Violet, fresh leaves; Watermint, fresh leaves; Waterpepper, fresh leaves; Wild bergamot, fresh leaves; Wintergreen, fresh leaves; Woodruff, fresh leaves; Wormwood, fresh leaves; Wormwood, Roman, fresh leaves; Yarrow, fresh leaves; Yellow gentian, fresh leaves; Yerba santa, fresh leaves; Yomogi, fresh leaves; cultivars, varieties, and/or hybrids of these.
Crop Subgroup 25B. Herb Dried Leaves Subgroup
Basil, dried leaves and mint, dried leaves | Agrimony, dried leaves; Angelica, dried leaves; Angelica, fragrant, dried leaves; Applemint, dried leaves; Avarum, dried leaves; Balloon pea, dried leaves; Balm, dried leaves; Barrenwort, dried leaves; Basil, dried leaves; Basil, American, dried leaves; Basil, Greek, dried leaves; Basil, holy, dried leaves; Basil, lemon, dried leaves; Basil, Russian, dried leaves; Bay, dried leaves; Bisongrass, dried leaves; Boneset, dried leaves; Borage, dried leaves; Borage, Indian, dried leaves; Burnet, dried leaves; Burnet, garden, dried leaves; Burnet, salad, dried leaves; Butterbur, dried leaves; Calamint, dried leaves; Calamint, large-flower, dried leaves; Calamint, lesser, dried leaves; Calendula, dried leaves; Caltrop, dried leaves; Camomile, dried leaves; Camomile, German, dried leaves; Camomile, Roman, dried leaves; Caraway, dried leaves; Cat's claw, dried leaves; Catnip, dried leaves; Catnip, Japanese, dried leaves; Centaury, dried leaves; Chaste tree, dried leaves; Chervil, dried leaves; Chinese chastetree, dried leaves; Chinese foxglove, dried leaves; Chive, dried leaves; Chive, Chinese, dried leaves; Cicely, sweet, dried leaves; Cilantro, dried leaves; Clary, dried leaves; Coriander, Bolivian, dried leaves; Coriander, Vietnamese, dried leaves; Costmary, dried leaves; Creat, dried leaves; Culantro, dried leaves; Curry leaf, dried leaves; Cut leaf, dried leaves; Dillweed, dried leaves; Echinacea, dried leaves; Epazote, dried leaves; Eucommia, dried leaves; Evening primrose, dried leaves; Fennel, common, dried leaves; Fennel, Florence, dried leaves; Fennel, Spanish, dried leaves; Fenugreek, dried leaves; Feverfew, dried leaves; Flowers, edible, dried; Fumitory, dried leaves; Geranium, dried leaves; Geranium, lemon, dried leaves; Geranium, rose, dried leaves; Germander, golden, dried leaves; Gotu kola, dried leaves; Gumweed, dried leaves; Gymnema, dried leaves; Gypsywort, dried leaves; Heal-all, dried leaves; Honeybush, dried leaves; Horehound, dried leaves; Horsemint, dried leaves; Hyssop, dried leaves; Hyssop, anise, dried leaves; Jasmine, dried leaves; Labrador, tea, dried leaves; Lavender, dried leaves; Lemongrass, dried leaves; Lemon verbena, dried leaves; Lovage, dried leaves; Love-in-a-mist, dried leaves; Mamaki, dried leaves; Marigold, dried leaves; Marigold, African, dried leaves; Marigold, Aztec, dried leaves; Marigold, French, dried leaves; Marigold, Irish lace, dried leaves; Marigold, licorice, dried leaves; Marigold, Mexican mint, dried leaves; Marigold, signet, dried leaves; Marjoram, dried leaves; Marjoram, pot, dried leaves; Marjoram, sweet, dried leaves; Marshmallow, dried leaves; Meadowsweet, dried leaves; Mint, dried leaves; Mint, corn, dried leaves; Mint, Korean, dried leaves; Monarda, dried leaves; Motherwort, dried leaves; Mountainmint, dried leaves; Mountainmint, clustered, dried leaves; Mountainmint, hoary, dried leaves; Mountainmint, Virginia, dried leaves; Mountainmint, whorled, dried leaves; Mugwort, dried leaves; Mulberry, white, dried leaves; Mullein, dried leaves; Nasturtium, dried leaves; Nasturtium, bush dried leaves; Nasturtium, garden, dried leaves; Nettle, dried leaves; Oregano, dried leaves; Oregano, Mexican, dried leaves; Oregano, Puerto Rico, dried leaves; Oswego tea, dried leaves; Pandan leaf, dried leaves; Pansy, dried leaves; Paracress, dried leaves; Parsley, dried leaves; Pennyroyal, dried leaves; Peppermint, dried leaves; Perilla, dried leaves; Rooibos, dried leaves; Rose, dried leaves; Rosemary, dried leaves; Sage, dried leaves; Sage, Greek, dried leaves; Sage, Spanish, dried leaves; Savory, summer, dried leaves; Savory, winter, dried leaves; Sorrel, dried leaves; Sorrel, French, dried leaves; Sorrel, garden, dried leaves; Southernwood, dried leaves; Spearmint, dried leaves; Spearmint, Scotch, dried leaves; Spotted beebalm, dried leaves; Squaw vine, dried leaves; St. John's Wort, dried leaves; Stevia, dried leaves; Tansy, dried leaves; Tarragon, dried leaves; Thyme, dried leaves; Thyme, creeping, dried leaves; Thyme, lemon, dried leaves; Thyme, mastic, dried leaves; Toon, Chinese, dried leaves; Vasaka, dried leaves; Violet, dried leaves; Watermint, dried leaves; Wild bergamot, dried leaves; Wintergreen, dried leaves; Wood betony, dried leaves; Woodruff, dried leaves; Wormwood, dried leaves; Wormwood, Roman, dried leaves; Yarrow, dried leaves; Yellow gentian, dried leaves; Yerba santa, dried leaves; Yomogi, dried leaves; cultivars, varieties, and/or hybrids of these.

(35) Crop Group 26. Spice Group.

(i) Representative commodities. Dill seed or Celery seed.

(ii) Commodities. The following Table 1 lists all commodities included in Crop Group 26.

Table 1—Crop Group 26: Spice Group
Commodities
Ajowan, seed, Trachyspermum ammi (L.) Sprague ex Turrill
Allspice, Pimenta dioica (L.) Merr.
Ambrette seed, Abelmoschus esculentus (L.) Moench
Amia, Phyllanthus amarus Schumach
Angelica, seed, Angelica archangelica L.
Angostura bark, Angostura trifoliata (Willd.) T.S. Elias
Anise seed, Pimpinella anisum L.
Anise pepper, Zanthoxylum piperitum (L.) DC.
Anise, star, Illicium verum Hook. f.
Annatto seed, Bixa orellana L.
Asafoetida, Ferula assa-foetida L.
Ashwagandha, fruit, Withania somnifera (L.) Dunal
Balsam, Peruvian, Myroxylon balsamum (L.) Harms var. pereirae (Royle) Harms
Batavia-cassia, bark, Cinnamomum burmanni (Nees & T. Nees) Blume
Batavia-cassia, fruit, Cinnamomum burmanni (Nees & T. Nees) Blume
Belleric myrobalan, Terminalia bellirica (Gaertn.) Roxb.
Betel vine, Piper betle L.
Black bread weed, Nigella arvensis L.
Blue mallee, Eucalyptus polybractea R.T. Baker
Boldo, leaves, Peumus boldus Molina
Buchi, Agathosma betulina (P.J. Bergius) Pillans
Calamus-root, Acorus calamus L.
Candlebush, Senna alata (L.) Roxb.
Canella bark, Canella winterana (L.) Gaertn.
Caper buds, Capparis spinosa L.
Caraway, fruit, Carum carvi L.
Caraway, black, Nigella sativa L.
Cardamom, black, Amomum spp.
Cardamom, Ethiopian, Aframomum corrorima (A. Braun) P.C.M. Jansen
Cardamom, green, Elettaria cardamomum (L.) Maton
Cardamom, Nepal, Amomum subulatum Roxb., Amomum aromaticum Roxb.
Cardamon-amomum, Amomum compactum Sol. ex Maton
Cascada buckthorn, bark, Frangula purshiana (DC.) A. Gray
Cassia bark, Cinnamomum spp.
Cassia fruit, Cinnamomum spp.
Cassia, Chinese, fruit, Cinnamomum aromaticum Nees.
Cassia, Chinese, bark, Cinnamomum aromaticum Nees.
Cat's claw, roots, Uncaria tomentosa (Willd.) DC., Uncaria guianensis (Aubl.) J.F. Gmel.
Catechu, bark, Senegalia catechu (L.f.) P.J.H. Hurter & Mabb.
Celery seed, Apium graveolens var. dulce (Mill.) Pers.
Chervil, seed, Anthriscus cerefolium (L.) Hoffm.
Chaste treeberry, berry, Vitex agnus-castus L.
Chinese chastetree, roots, Vitex negundo L.
Chinese hawthorn, Crataegus pinnatifida Bunge
Chinese nutmeg tree, Torreya grandis Fortune
Chinese-pepper, Zanthoxylum simulans Hance
Chinese prickly-ash, Zanthoxylum bungeanum Maxim
Cinnamon, bark, Cinnamomum verum J. Presl
Cinnamon, fruit, Cinnamomum verum J. Presl
Cinnamon, Saigon, bark, Cinnamomum loureiroi Nees
Cinnamon, Saigon, fruit, Cinnamomum loureiroi Nees
Clove buds, Syzygium aromaticum (L.) Merr. & L.M. Perry
Copaiba, Copaifera officinalis (Jacq.) L.
Coptis, Coptis chinensis Franch., Coptis spp.
Coriander, fruit, Coriandrum sativum L.
Coriander, seed, Coriandrum sativum L.
Cubeb, seed, Piper cubeba L.f.
Culantro, seed, Eryngium foetidum L.
Cumin, Cuminum cyminum L
Cumin, black, Bunium persicum (Boiss.) B. Fedtsch.
Daharian angelica, leaves, Angelica dahurica (Hoffm.) Benth. & Hook. f. ex Franch. & Sav.
Daharian angelica, seed, Angelica dahurica (Hoffm.) Benth. & Hook. f. ex Franch. & Sav.
Damiana leaf, Turnera diffusa Willd.
Dill, seed, Anethum graveolens L.
Dorrigo pepper, berry, Tasmannia stipitata (Vick.) A.C. Smith
Dorrigo pepper, leaf, Tasmannia stipitata (Vick.) A.C. Smith
Epimedium, Epimedium spp.
Eucalyptus, Eucalyptus spp.
Eucommia, bark, Eucommia ulmoides Oliv.
Felty germander, Teucrium polium L.
Fennel, common, fruit, Foeniculum vulgare Mill. subsp. vulgare var. vulgare
Fennel, common, seed, Foeniculum vulgare Mill. subsp. vulgare var. vulgare
Fennel, Florence, fruit, Foeniculum vulgare Mill. subsp. vulgare var. azoricum (Mill.) Thell.
Fennel, Florence, seed, Foeniculum vulgare Mill. subsp. vulgare var. azoricum (Mill.) Thell.
Fennel flower, seed, Nigella hispanica L.
Fenugreek, seed, Trigonella foenum-graecum L.
Fingerroot, Boesenbergia rotunda (L.) Mansf.
Frankincense, Boswellia sacra Flueck.
Frankincense, Indian, Boswellia serrata Roxb. ex Colebr.
Galbanum, Ferula gummosa Boiss.
Gambooge, Garcinia gummi-gutta (L.) N. Robson
Grains of Paradise, Aframomum melegueta K. Schum.
Grains of Selim, Xylopia aethiopica (Dunal) A. Rich.
Guarana, Paullinia cupana Kunt
Guaiac, Guaiacum officinale L.
Guggul, Commiphora wightii (Arn.) Bhandari
Gum arabic, Senegalia senegal (L.) Britton
Gum ghatti, Anogeissus latifolia (Roxb. ex DC.) Wall. ex Guill. & Perr.
Gum karaya, Stercula urens Roxb.
Gum tragacanth, Astragalus gummifer Labill.
Gymnema, dried leaves Gymnema sylvestre (Retz.) Schult.
Haw, black, Viburnum prunifolium L.
Honewort, seed, Cryptotaenia canadensis (L.) DC.
Imperatoria, Peucedanum officinale L.
Iva, Achillea erba-rotta All. subsp. moschata (Wulfen) I. Richardson
Jalap, Ipomoea purga (Wender.) Hayne
Juniper berry, Juniperus communis L.
Kaffir lime, leaf, Citrus hystrix DC.
Kewra, Pandanus fascicularis Lam.
Kokam, Garcinia indica (Thouars) Choisy
Linden, dried leaves, Tilia americana L.
Lovage, seed, Levisticum officinale W.D.J. Koch
Mace, Myristica fragrans Houtt.
Magnolia-bark, Magnolia officinalis Rehder & E.H. Wilson
Mahaleb, Prunus mahaleb L.
Malabar cardamom, Amomum villosum Lour.
Malabathrum, Cinnamomum tamala (Buch-Ham.) Nees & Eberm.
Malabar-tamarind, Garcinia spp.
Mastic, Pistacia lentiscus L.
Micromeria, white, Micromeria fruticosa (L.) Druce
Milk thistle, Silybum marianum (L.) Gaertn.
Mioga, Zingiber mioga (Thunb.) Roscoe
Miracle fruit, Synsepalum dulcificum (Schumach. & Thonn.) Daniell
Mustard seed, Brassica spp. and Sinapis spp.
Mustard, black, Brassica nigra (L.) W.D.J. Koch
Mustard, brown, Brassica juncea (L.) Czern. var. juncea
Mustard, white, Sinapis alba L. ssp. alba
Myrrh, Commiphora myrrha (Nees) Engl., Commiphora africana (A. Rich.) Engl.
Myrrh, bisabol, Commiphora kataf (Forssk.) Engl
Myrtle, dried leaves, Myrtus communis L.
Myrtle, anise, Syzygium anisatum (Vickery) Craven & Biffen
Myrtle, lemon, Backhousia citriodora F. Muell.
Nasturtium, pods, Tropaeolum spp
Nasturtium, bush, pods, Tropaeolum minus L.
Nasturtium, garden, pods, Tropaeolum majus L.
Nutmeg, Myristica fragrans Houtt.
Pepper, black, Piper nigrum L.
Pepper, white, Piper nigrum L.
Pepper, Cubeb, Piper cubeba L.f.
Pepper, Indian long, Piper longum L.
Pepper, leaf, Piper auritum Kunth, Piper lolot C.DC, Piper sanctum (Miq.) Schltdl., Piper umbellatum L.
Pepper, long, Piper longum L.
Pepper, Javanese Long, Piper retrofractum Vahl.
Pepper, Sichuan, Zanthoxylum spp.
Pepperbush, berry, Tasmannia spp.
Pepperbush, leaf, Tasmannia spp.
Peppertree, Schinus spp.
Peppertree, Brazilian, Schinus terebinthifolius Raddi
Peppertree, Peruvian, Schinus molle L.
Perilla leaf, Perilla frutescens (L.) Britton
Perilla seed, Perilla frutescens (L.) Britton
Pine, maritime, Pinus pinaster Aiton
Pipsissewa, leaves, Chimaphila umbellata (L.) W.P.C. Barton
Poppy seed, Papaver somniferum L. subsp. somniferum
Pygeum, Prunus africana (Hook.f.) Kalkman
Quassia, bark, Quassia amara L.
Quebracho bark, Aspidosperma quebracho-blanco Schltdl.
Quinine, Cinchona pubescens Vahl
Qing hua jiao, Zanthoxylum schinifolium Siebold & Zucc
Quillaja, Quillaja saponaria Molina
Rue, Ruta graveolens L
Saffron crocus, Crocus sativus L.
Sassafras, leaves, Sassafras albidum (Nutt.) Nees
Saunders, red, Pterocarpus santalinus L.f.
Simaruba, bark, Simarouba amara Aubl.
Slippery elm, Ulmus rubra Muhl.
Sumac, fragrant, Rhus aromatica Aiton
Sumac, smooth leaf, Rhus glabra L.
Tasmanian pepper berry, Tasmannia lanceolata (Poir.) A.C. Sm
Tasmanian pepper leaf, Tasmannia lanceolata (Poir.) A.C. Sm.
Tsao-Ko, Amomum tsao-ko Crevost & Lemarié
Vanilla, Vanilla planifolia Jacks.
Wattleseed, Acacia spp.
White willow, Salix alba L.
Willow, Salix spp.
Yellow gentian, roots, Gentiana lutea L.
Cultivars, varieties, and hybrids of these commodities.

[FR Doc. 2019-18285 Filed 8-26-19; 8:45 am]

BILLING CODE 6560-50-P